DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
City of Radford, Virginia
FEMA Docket No.: B-1012
Virginia | City of Radford | Plum Creek | Approximately 300 feet downstream of US Highway 11 | +1739
|  |  | Approximately at the upstream corporate limits for the City of Radford | +1782
* National Geodetic Vertical Datum.
+ North American Vertical Datum.
# Depth in feet above ground.
ADDRESSES
City of Radford
Maps are available for inspection at the City of Radford Engineering Department, 619 2nd Street, Radford, VA 24141.

Flooding source(s) | Location of referenced elevation | * Elevation in feet (NGVD) + Elevation in feet (NAVD) # Depth in feet above ground: Modified | Communities affected
Archuleta County, Colorado, and Incorporated Areas
FEMA Docket No.: B-1016
Stollsteimer Creek | 150 feet east of CR 700 Extension | +6783 | Unincorporated Areas of Archuleta County.
| South of Hawthorne Drive and Highway 160 | +7023
* National Geodetic Vertical Datum.
+ North American Vertical Datum.
# Depth in feet above ground.
ADDRESSES
Unincorporated Areas of Archuleta County
Maps are available for inspection at 449 San Juan Street, Pagosa Springs, CO 81147.
Orange County, Florida, and Incorporated Areas
FEMA Docket No.: B-1000
Apache Lake | Bound by Arrowhead Boulevard to the north, Arrena Road to the west, Orange/Osceola county boundary to the south, and Strahan Boulevard to the east | +111 | Unincorporated Areas of Orange County.
Bear Bay | Bound by Hartzog Road to the north, Avalon Road to the west, Hartzog Road to the south and east | +104 | Unincorporated Areas of Orange County.
Border Lake | Entire shoreline | +77 | City of Apopka.
Cypress Creek | Approximately 1,580 feet downstream of Winter Garden Vineland Road | +98 | Unincorporated Areas of Orange County.
| Approximately 2.6 miles upstream of Winter Garden Vineland Road | +102
Doe Lake | Entire shoreline | +108 | Unincorporated Areas of Orange County.
Druid Lake | Bound by Chelsea Street to the north, North Bumby Avenue to the west, Seabee Street to the south, and Port Hueneme Avenue to the east | +104 | City of Orlando.
Flooding Effects from Hancock Lake (Lake County) | Bound by Old YMCA Road to the north, Orange/Lake county boundary to the west, Lake Star Road to the south, and Avalon Road to the east | +110 | Unincorporated Areas of Orange County.
| Bound by Lake Ihrig to the north, Orange/Lake county boundary to the west, Lake Star Road to the south, and Avalon Road to the east | +115
| Bound by Flemings Road to the north, Orange/Lake county boundary to the west, County Road to the south, and Avalon Road to the east | +115
Flooding Effects from Sawgrass Bay (Lake County) | Bound by Unnamed Lake E to the north, Orange/Lake county boundary to the west, Lake Ihrig to the south, and Unnamed Lake I to the east | +106 | Unincorporated Areas of Orange County.
Grass Lake | Bound by County Road to the north, Orange/Lake county boundary to the west, Bali Boulevard to the south, and Avalon Road to the east | +113 | Unincorporated Areas of Orange County.
Hickorynut Lake | Bound by Old YMCA Road to the north, Orange/Lake county boundary to the west, Lake Star Road to the south, and Avalon Road to the east | +104 | Unincorporated Areas of Orange County.
Huckleberry Lake | Bound by Phil Ritson Way to the north, Avalon Road to the west, Seidel Road to the south, and Lake Hancock Road to the east | +97 | Unincorporated Areas of Orange County.
John Young Parkway Drainage Canal | Approximately 1,000 feet downstream of Mercy Drive | +89 | Unincorporated Areas of Orange County, City of Orlando.
| Just downstream of North Texas Avenue | +94
Lake 74 | Bound by Canterclub Trail to the north, Haverlake Circle to the west, Orangehurst Street to the south, and Orange/Seminole county boundary to the east | +114 | Unincorporated Areas of Orange County.
Lake Angel | Bound by 23rd Street to the north, S. Westmoreland Drive to the west, 26th Street to the south, and Interstate 4 to the east | +104 | Unincorporated Areas of Orange County, City of Orlando.
Lake Austin | Entire shoreline | +113 | Unincorporated Areas of Orange County.
Lake Bessie | Entire shoreline | +101 | Town of Windermere, Unincorporated Areas of Orange County.
Lake Blanche | Entire shoreline | +101 | Unincorporated Areas of Orange County.
Lake Britt | Bound by Hartzog Road to the north, Avalon Road to the west, and Hartzog Road to the south and east | +105 | Unincorporated Areas of Orange County.
Lake Burden | Bound by Chase Road to the north, Winter Garden Vineland Road to the west and south, and Lake Tibet to the east | +108 | Unincorporated Areas of Orange County.
Lake Butler | Bound by Lake Butler Boulevard to the north, West Lake Butler Road to the west, Chase Road to the south, and Main Street to the east | +101 | Unincorporated Areas of Orange County, Town of Windermere.
Lake Cay Dee | Bound by Corrine Drive to the north, Falcon Drive to the west, Chelsea Street to the south, and Oriole Avenue to the east | +110 | City of Orlando.
Lake Chapin | Bound by Arrowhead Boulevard to the north, Avalon Road to the west, Interstate 192 to the south, and Arrena Road to the south | +111 | Unincorporated Areas of Orange County.
Lake Florence | Bound by Lake Florence to the north and west, Good Homes Road to the south and east | +81 | Unincorporated Areas of Orange County, City of Ocoee.
Lake Fran | Entire shoreline | +95 | City of Orlando.
Lake Gifford | Entire shoreline | +113 | Unincorporated Areas of Orange County.
Lake Hancock | Bound by McKinney Road to the north, Avalon Road to the west, Porter Road to the south, and Ficquette Road to the east | +99 | Unincorporated Areas of Orange County.
Lake Hartley | Entire shoreline | +99 | Unincorporated Areas of Orange County.
Lake Heney | Entire shoreline | +106 | Unincorporated Areas of Orange County.
Lake Ihrig | Entire shoreline | +106 | Unincorporated Areas of Orange County.
Lake Johio | Bound by New Victor Road to the north, Tuscany Mill Way to the west, Azalea Ranch Lane to the south, and Johio Shores Road to the east | +120 | Unincorporated Areas of Orange County, City of Ocoee.
Lake June | Bound by 18th Street to the north, Highway 441 to the west, West Kaley Avenue to the south, and South Westmoreland Drive to the east | +105 | Unincorporated Areas of Orange County.
Lake Lotta | Bound by Floribunda Drive to the north, South Clarke Road to the west, State Highway 408 West to the south, and Good Homes Road to the east | +91 | Unincorporated Areas of Orange County, City of Ocoee.
Lake Lucy | Entire shoreline | +81 | Unincorporated Areas of Orange County.
Lake Mabel | Bound by Winter Garden Vineland Road to the north, Reams Road to the west, Vista Boulevard to the south, and Winer Garden Vineland to the east | +95 | Unincorporated Areas of Orange County.
Lake Moxie | Entire shoreline | +143 | City of Ocoee.
Lake Needham | Bound by Schofield Road to the north, Orange/Lake county boundary to the west, Old YMCA Road to the south, and Avalon Road to the east | +106 | Unincorporated Areas of Orange County.
Lake Notasulga | Bound by State Highway 50 to the north, Feguson Drive to the west, Old Winter Garden Road to the south, and State Highway 423 to the east | +99 | Unincorporated Areas of Orange County, City of Orlando.
Lake Oliver | Entire shoreline | +113 | Unincorporated Areas of Orange County.
Lake Olympia | Entire shoreline | +102 | Unincorporated Areas of Orange County.
Lake Pit | Bound by Flemings Road to the north, to Orange/Lake county boundary the west, County Road to the south, and Avalon Road to the east | +113 | Unincorporated Areas of Orange County.
Lake Prima Vista | Bound by Starke Lake to the north, Lakewood Avenue to the west, East Orlando Avenue to the south, and East Lakeshore Drive to the east | +102 | Unincorporated Areas of Orange County, City of Ocoee.
Lake Reams | Entire shoreline | +99 | Unincorporated Areas of Orange County.
Lake Rexford | Bound by Hartzog Road to the north, Avalon Road to the west, Arrowhead Boulevard to the south and to the east | +112 | Unincorporated Areas of Orange County.
Lake Rhea | Bound by Roberson Road to the north, Windermere Road to the west, Willow Gardens Road to the south, and Maguire Road to the east | +118 | Unincorporated Areas of Orange County.
Lake Sawgrass | Bound by Porter Road to the north, Phil Ritson Way to the west, Lake Hancock Road to the south and to the east | +99 | Unincorporated Areas of Orange County.
Lake Sawyer | Bound by Winter Garden Vineland Road to the north, Ficquette Hancock Road to the west, Overstreet Road to the south, and Winter Garden Vineland Road to the east | +106 | Unincorporated Areas of Orange County.
Lake Scott | Bound by Hartzog Road to the north, Avalon Road to the west, Arrowhead Boulevard to the south, and Vista Del Lago Boulevard to the east | +112 | Unincorporated Areas of Orange County.
Lake Sentinel | Bound by Lake Starr Road to the north and to the west, Flemings Road to the south, and Avalon Road to the east | +110 | Unincorporated Areas of Orange County.
Lake Sharp | Entire shoreline | +99 | Unincorporated Areas of Orange County.
Lake Speer | Bound by Tilden Road to the north, Tiny Road to the west, Ficquette Road to the south, and Winter Garden Vineland Road to the east | +101 | Unincorporated Areas of Orange County.
Lake Stanley | Bound by Lowman Avenue to the north, Cedar Bluff Lane to the west, State Highway 438 to the south, and North Apopka Vineland Road to the east | +84 | Unincorporated Areas of Orange County, City of Ocoee.
Lake Star | Bound by Lake Starr Road to the north and to the west, Flemings Road to the south, and Avalon Road to the east | +111 | Unincorporated Areas of Orange County, City of Ocoee.
Lake Theresa | Bound by Pelican Road to the north, Executive Center Drive to the west, Maguire Boulevard to the south, and Bennet Road to the east | +113 | City of Orlando.
Lake William Davis | Bound by West Lake Butler Road to the north, Winter Garden Vineland Road to the west and to the south, and West Lake Butler Road to the east | +101 | Unincorporated Areas of Orange County.
Little Fish Lake | Entire shoreline | +101 | Unincorporated Areas of Orange County.
Little Lake Sawyer | Bound by Winter Garden Vineland Road to the north, Ficquette Hancock Road to the west, Overstreet Road to the south, and Winter Garden Vineland Road to the east | +106 | Unincorporated Areas of Orange County.
Little Osage Lake | Bound by Osage Lake to the north, Strahan Boulevard to the west, Orange/Osceola county boundary to the south, and Vista Del Lago Boulevard to the east | +111 | Unincorporated Areas of Orange County.
Mudd Lake | Entire shoreline | +113 | Unincorporated Areas of Orange County.
Orange County Pond Outfall Canal | Lake Gillooly | +83 | Unincorporated Areas of Orange County, City of Orlando.
| Approximately 2,640 feet upstream of East Landstreet Road | +94
Osage Lake | Bound by Arrowhead Boulevard to the north and west, Orange/Osceola county boundary to the south, and Vista Del Lago Boulevard to the east | +111 | Unincorporated Areas of Orange County.
Peach Lake | Entire shoreline | +151 | City of Ocoee.
Pond 740 | Bound by State Highway 50 to the north, Mercy Drive to the west, Old Winter Garden Road to the south, and Ferguson Drive to the east | +99 | City of Orlando.
Ponding Area 395-1 | Bound by Orange/Lake county boundary to the north, Rainey Road to the west, Swain Road to the south, and Mt. Plymouth Road to the east | +62 | Unincorporated Areas of Orange County.
Ponding Area No. 30 | Bound by Lynx Lane to the north, State Highway 423 to the west, State Highway 438 to the south, and North Texas Avenue to the east | +98 | City of Orlando.
Ponding Area No. 31 | Bound by State Highway 438 to the north, State Highway 423 to the west, John Young Parkway Drainage Canal to the south, and Brinkley Way to the east | +97 | City of Orlando.
Ponding Area No. 32 | Bound by State Highway 438 to the north, State Highway 423 to the west, John Young Parkway Drainage Canal to the south, and North Texas Avenue to the east | +96 | City of Orlando.
Ponding Area No. 33 | Bound by W. Judge Drive to the north, Kensington Drive to the west, State Highway 50 to the south, and State Highway 423 to the east | +98 | City of Orlando.
Ponding Area No. 34 | Bound by West D. Judge Drive to the north, Kensington Drive to the west, State Highway 50 to the south, and State Highway 423 to the east | +96 | City of Orlando.
Ponding Area No. 35 | Bound by West D. Judge Drive to the north, Mercy Drive to the west, State Highway 50 to the south, and Ferguson Drive to the east | +96 | City of Orlando, Unincorporated Areas of Orange County.
Ponding Area No. 36 | Bound by West D. Judge Drive to the north, Mercy Drive to the west, El Rey Road to the south, and Ferguson Drive to the east | +96 | City of Orlando.
Ponding Area No. 37 | Bound by Boston Common Street to the north, Mercy Drive to the west, El Rey Road to the south, and Ferguson Drive to the east | +96 | City of Orlando, Unincorporated Areas of Orange County.
Ponding Area No. 38 | Bound by Racoon Lake to the north, Ranger Smiths Circle to the west, Orange/Osceola county boundary to the south, and Orange Lake Circle to the east | +105 | Unincorporated Areas of Orange County.
Ponding Area No. 39 | Bound by Orange Lake Circle to the north, Ponding Area No. 38 to the west, Orange/Osceola county boundary to the south, and Orange Lake Boulevard to the east | +105 | Unincorporated Areas of Orange County.
Ponding Area No. 40 | Bound by Aviendo Del Lago Drive to the north, Vista Del Lago to the west, Daeza Drive to the south, and Racoon Lake to the east | +110 | Unincorporated Areas of Orange County.
Ponding Area No. 41 | Bound by Lake Kem Way to the north, Racoon Lake to the west, and Orange Lake Boulevard to the south and to the east | +105 | Unincorporated Areas of Orange County.
Ponding Area No. 42 | Bound by Hartzog Road to the north, Lake Kem Way to the west and to the south, and Cypress Circle to the east | +105 | Unincorporated Areas of Orange County.
Ponding Area No. 43 | Bound by to Hartzog Road to the north, Avalon Road to the west, and Hartzog Road to the south and to the east | +110 | Unincorporated Areas of Orange County.
Ponding Area No. 44 | Bound by to Hartzog Road to the north, Avalon Road to the west, and Hartzog Road to the south and to the east | +107 | Unincorporated Areas of Orange County.
Ponding Area No. 45 | Bound by to Hartzog Road to the north, Avalon Road to the west, and Hartzog Road to the south and to the east | +106 | Unincorporated Areas of Orange County.
Ponding Area No. 49 | Bound by County Road to the north, Orange/Lake county boundary to the west, Bali Boulevard to the south, and Avalon Road to the east | +116 | Unincorporated Areas of Orange County.
Ponding Area No. 50 | Bound by Bali Avenue to the north, Orange/Lake county boundary to the west, Orange/Osceola county boundary to the south, and Bali Avenue to the east | +112 | Unincorporated Areas of Orange County.
Ponding Area No. 51 | Bound by Hartzog Road to the north, Avalon Road to the west, Arrowhead Boulevard to the south, and Vista Del Lago Boulevard to the east | +113 | Unincorporated Areas of Orange County.
Ponding Area No. 52 | Bound by Hartzog Road to the north, Avalon Road to the west, Arrowhead Boulevard to the south, and Vista Del Lago Boulevard to the east | +112 | Unincorporated Areas of Orange County.
Ponding Area No. 53 | Bound by Hartzog Road to the north, Avalon Road to the west, Arrowhead Boulevard to the south, and Vista Del Lago Boulevard to the east | +112 | Unincorporated Areas of Orange County.
Ponding Area No. 54 | Bound by Vista Del Lago Boulevard to the north, Avalon Road to the west, Cordoba Street to the south, and Vista Del Lago Boulevard to the east | +113 | Unincorporated Areas of Orange County.
Ponding Area No. 55 | Bound by Vista Del Lago Boulevard to the north, Avalon Road to the west, Cordoba Street to the south, and Vista Del Lago Boulevard to the east | +112 | Unincorporated Areas of Orange County.
Ponding Area No. 56 | Bound by Cordoba Street to the north, Arrowhead Boulevard to the west, Osage Lake to the south, and Vista Del Lago Boulevard to the east | +111 | Unincorporated Areas of Orange County.
Ponding Area No. 57 | Bound by Flemings Road to the north, Orange/Lake county boundary to the west, County Road to the south, and Avalon Road to the east | +115 | Unincorporated Areas of Orange County.
Ponding Area No. 58 | Bound by Old YMCA Road to the north and to the west, Hickorynut Lake to the south, and Avalon Road to the east | +104 | Unincorporated Areas of Orange County.
Ponding Area No. 60 | Bound by Seidel Road to the north, Avalon Road to the west, Hartzog Road to the south, and Reedy Lake to the east | +106 | Unincorporated Areas of Orange County.
Ponding Area No. 61 | Bound by Malcom Road to the north, Avalon Road to the west, McKinney Road to the south, and Mann Road to the east | +100 | Unincorporated Areas of Orange County.
Ponding Area No. 62 | Bound by Tilden Road to the north, Tiny Road to the west, Lake Speer to the south, and Winter Garden Vineland Road to the east | +102 | Unincorporated Areas of Orange County.
Ponding Area No. 63 | Bound by McKinney Road to the north, Avalon Road to the west, Porter Road to the south, and Ficquette Hancock Road to the east | +102 | Unincorporated Areas of Orange County.
Ponding Area No. 64 | Bound by Lake Star Road to the north Flemings Road to the west and to the south, and Avalon Road to the east | +116 | Unincorporated Areas of Orange County.
Ponding Area No. 65 | Bound by Hartzog Road to the north, Avalon Road to the west, and Hartzog Road to the south and to the east | +107 | Unincorporated Areas of Orange County.
Ponding Area No. 66 | Bound by Whittenhorse Creek to the north, Hartzog Road to the west, Boggy Creek 2 to the south, and Perimeter Canal to the east | +103 | Unincorporated Areas of Orange County.
Ponding Area No. 67 | Bound by Porter Road to the north, Avalon Road to the west, Seidel Road to the south and to the east | +99 | Unincorporated Areas of Orange County.
Ponding Area No. 68 | Bound by West Lake Butler Road to the north, Winter Garden Vineland Road to the west and to the south, and West Lake Butler Road to the east | +106 | Unincorporated Areas of Orange County.
Ponding Area No. 69 | Bound by Overstreet Road to the north, Reams Road to the west and to the south, and Winter Garden Vineland Road to the east | +108 | Unincorporated Areas of Orange County.
Ponding Area No. 70 | Bound by Lake Butler to the north, Winter Garden Vineland Road to the west, Sandy Shores Drive to the south and to the east | +101 | Unincorporated Areas of Orange County.
Ponding Area No. 71 | Bound by Park Ridge Gotha Road to the north, Maguire Road to the west, Wonder Lane to the south, and Down Hollow Road to the east | +106 | Unincorporated Areas of Orange County.
Ponding Area No. 72 | Bound by Wonder Lane to the north, Maguire Road to the west, Down Yonder Lane to the south, and Lake Down to the east | +103 | Unincorporated Areas of Orange County.
Ponding Area No. 73 | Bound by Chase Road to the north and to the west, Isleworth Country Club Drive to the south, and railroad to the east | +102 | Unincorporated Areas of Orange County.
Ponding Area No. 75 | Bound by Brookline Drive to the north, railroad to the west and to the south, and Brookline Drive to the east | +111 | Unincorporated Areas of Orange County.
Ponding Area No. 76 | Bound by Bat Hill Boulevard to the north and to the west, Shawn Park Place to the south, and Donegal Drive to the east | +103 | Unincorporated Areas of Orange County.
Ponding Area No. 77 | Bound by Lost Cove Road to the north, Shawn Park Place to the west, South Bay Drive to the south, and Lost Cove Road to the east | +103 | Unincorporated Areas of Orange County.
Ponding Area No. 78 | Bound by State Highway 50 to the north, State Route 408 Off Ramp to the west and to the south, and Citrus Oaks Avenue to the east | +92 | Unincorporated Areas of Orange County, City of Ocoee.
Ponding Area No. 79 | Bound by Clarcona Ocoee Road to the north, Licaria Drive to the west, Nicole Boulevard to the south, and Lauren Beth Avenue to the east | +89 | Unincorporated Areas of Orange County, City of Ocoee.
Ponding Area No. 80 | Bound by Lumberjack Lane to the north, Log Wagon Road to the west, Hackney Prairie Road to the south, and Timber Ridge Trail to the east | +96 | City of Ocoee.
Ponding Area No. 81 | Bound by Natchez Trace Boulevard to the north and to the west, Montevello Court to the south, and Sackett Circle to the east | +115 | Unincorporated Areas of Orange County.
Ponding Area No. 82 | Bound by White Road to the north, Rosemist Court to the west, and South Clarke Road to the south and to the east | +97 | Unincorporated Areas of Orange County.
Racoon Lake | Bound by Hartzog Road to the north, Boo Boo Road to the west, Orange/Osceola county boundary to the south, and Orange Lake Boulevard to the east | +105 | Unincorporated Areas of Orange County.
Reedy Lake | Bound by Overstreet Road to the north, Lake Reams Boulevard to the west, Reams Road to the south and to the east | +96 | Unincorporated Areas of Orange County.
Rock Lake | Bound by Rock Lake Drive to the north, North Tampa Avenue to the west, West Washington Street to the south, and Highway 441 to the east | +100 | City of Orlando.
Shingle Creek | Orange/Osceola county boundary | +75 | Unincorporated Areas of Orange County.
| Just downstream of Raleigh Street | +97
South Lake | Bound by Connie Drive to the north, World Drive to the west, Vista Boulevard to the south, and Winter Garden Vineland Road to the east | +95 | Unincorporated Areas of Orange County.
Southport Ditch | Just downstream of Tradeport Drive South | +87 | City of Orlando.
| Approximately 1,000 feet upstream of Andros Place | +89
Spring Lake No. 3 | Bound by railroad to the north, Ridgefield Avenue to the west, Century Oak Drive to the south, and North Clarke Road to the east | +117 | Unincorporated Areas of Orange County, City of Ocoee.
Starke Lake | Bound by State Highway 438 to the north, North Lakeshore Drive to the west, East Lakeshore Drive to the south, and 1st Street to the east | +102 | Unincorporated Areas of Orange County, City of Ocoee.
Stream A No. 1 | Approximately 400 feet downstream of North Bluford Avenue | +102 | City of Ocoee.
| Just downstream of North Kissimmee Avenue | +113
Stream B | Just downstream of Ocoee Apopka Road | +89 | Unincorporated Areas of Orange County.
| Approximately 800 feet downstream of Ocoee Apopka Road | +111
Stream B (Swamp) | Bound by Fullers Cross Road to the north, Ocoee Apopka Road to the west, State Highway 438 to the south, and North Lakewood Avenue to the east | +119 | Unincorporated Areas of Orange County, City of Ocoee.
Stream C | Just upstream of State Road 429 | +89 | Unincorporated Areas of Orange County, City of Ocoee.
| Just upstream of Palm Drive | +116
Texas Basin Ponding Area | Bound by State Highway 50 to the north, State Highway 423 to the west, Old Winter Garden Road to the south, and North Tampa Avenue to the east | +100 | Unincorporated Areas of Orange County, City of Orlando.
Tradeport Ditch | Just upstream of Wiley Drive | +82 | City of Orlando.
| Just upstream of Oak Bluff Drive | +93
Tub Lake | Bound by Seidel Road to the north and to the west, Reedy Lake to the south, and Perimeter Canal to the east | +96 | Unincorporated Areas of Orange County.
Unnamed Flooding Area (Lake 72) | Bound by Orchard Drive to the north, Majestic Oak Drive to the west and to the south, and Orange/Seminole county boundary to the east | +64 | Unincorporated Areas of Orange County.
Unnamed Lake 14 | Bound by Old YMCA Road to the north, Hickorynut Lake to the west and to the south, and Avalon Road to the east | +103 | Unincorporated Areas of Orange County.
Unnamed Lake 15 | Bound by Phil Ritson Way to the north, Avalon Road to the west, Seidel Road to the south and to the east | +103 | Unincorporated Areas of Orange County.
Unnamed Lake 17 | Bound by Roberson Road to the north, Windermere Road to the west and to the south, and Kane Park Way to the east | +106 | Unincorporated Areas of Orange County.
Unnamed Lake D | Entire shoreline | +105 | Unincorporated Areas of Orange County.
Unnamed Lake E | Entire shoreline | +105 | Unincorporated Areas of Orange County.
Unnamed Lake F | Entire shoreline | +104 | Unincorporated Areas of Orange County.
Unnamed Lake G | Entire shoreline | +104 | Unincorporated Areas of Orange County.
Unnamed Lake H | Entire shoreline | +104 | Unincorporated Areas of Orange County.
Unnamed Lake I | Entire shoreline | +104 | Unincorporated Areas of Orange County.
Unnamed Lake J | Entire shoreline | +107 | Unincorporated Areas of Orange County.
* National Geodetic Vertical Datum.
+ North American Vertical Datum.
# Depth in feet above ground.
ADDRESSES
City of Apopka
Maps are available for inspection at the Apopka City Engineer's Office, 120 East Main Street, Apopka, FL 32704-1229.
City of Ocoee
Maps are available for inspection at the Building and Zoning Department, 150 North Lakeshore Drive, Ocoee, FL 34761.
City of Orlando
Maps are available for inspection at the City of Orlando Permitting Services Division, 400 South Orange Avenue, Orlando, FL 32801.
Town of Windermere
Maps are available for inspection at the Windermere Town Hall, 614 Main Street, Windermere, FL 34786.
Unincorporated Areas of Orange County
Maps are available for inspection at the Orange County Stormwater Management Department, 4200 South John Young Parkway, Orlando, FL 32839.
Ben Hill County, Georgia, and Incorporated Areas
FEMA Docket No.: B-1009
Turkey Creek | Just upstream of Industrial Drive | +315 | Unincorporated Areas of Ben Hill County.
| Approximately 270 feet downstream of Cemetery Road | +319
| At Cemetery Road | +319
| Approximately 1,520 feet downstream of Monitor Drive | +327
| Approximately 760 feet upstream of Sultana Drive | +341
| Approximately 1,150 feet upstream of Rochelle Road | +344
Turkey Creek Tributary No. 1 | Approximately 950 feet downstream of W. Roanoke Drive | +328 | Unincorporated Areas of Ben Hill County.
| Approximately 480 feet downstream of W. Roanoke Drive | +329
Willacoochee River | Approximately 1,880 feet downstream of Irwinville Highway | +324 | Unincorporated Areas of Ben Hill County.
| Approximately 1,780 feet downstream of Irwinville Highway | +324
| Approximately 1,280 feet downstream of Irwinville Highway | +325
| Approximately 480 feet downstream of Irwinville Highway | +326
* National Geodetic Vertical Datum.
+ North American Vertical Datum.
# Depth in feet above ground.
ADDRESSES
Unincorporated Areas of Ben Hill County
Maps are available for inspection at the County Commissioner's Office, 402-A East Pine Street, Fitzgerald, GA 31750.
Berrien County, Georgia, and Incorporated Areas
FEMA Docket No.: B-1016
Cat Creek/Tributary 2 | Approximately 320 feet downstream of State Highway 37 | +175 | Unincorporated Areas of Berrien County.
| Approximately 1,270 feet upstream of North Street | +183
* National Geodetic Vertical Datum.
+ North American Vertical Datum.
# Depth in feet above ground.
ADDRESSES
Unincorporated Areas of Berrien County
Maps are available for inspection at the County Courthouse, Town Square, Nashville, GA 31639.
Colquitt County, Georgia, and Incorporated Areas
FEMA Docket No.: B-1016
Ochlockonee River | Approximately 3,380 feet downstream of Camilla Highway | +256 | Township of Riverside.
| Approximately 238 feet upstream of Camilla Highway | +258
* National Geodetic Vertical Datum.
+ North American Vertical Datum.
# Depth in feet above ground.
ADDRESSES
Township of Riverside
Maps are available for inspection at City Hall, 301 Riverside Drive, Moultrie, GA 31768.
Crisp County, Georgia, and Incorporated Areas
FEMA Docket No.: B-1017
Gum Creek | 9,000 feet downstream of West Eleventh Street | +277 | Unincorporated Areas of Crisp County.
| 850 feet downstream of West Eleventh Street | +284
* National Geodetic Vertical Datum.
+ North American Vertical Datum.
# Depth in feet above ground.
ADDRESSES
Unincorporated Areas of Crisp County
Maps are available for inspection at 210 7th Street, Cordele, GA 31015.
Decatur County, Georgia, and Incorporated Areas
FEMA Docket No.: B-1014
Flint River | Approximately 2.4 miles downstream of U.S. Route 27 | +90 | Unincorporated Areas of Decatur County, City of Bainbridge.
| Approximately 2.9 miles upstream of Calhoun Street | +98
Flint River/Lake Seminole | At the confluence with Butlers Creek | +81 | Unincorporated Areas of Decatur County.
| At Georgia/Florida state line | +81
Big Slough Tributary | Approximately 1,450 feet downstream of Thomasville Road | +105 | Unincorporated Areas of Decatur County, City of Bainbridge.
| Approximately 440 feet downstream of Lake Douglas Road | +107
* National Geodetic Vertical Datum.
+ North American Vertical Datum.
# Depth in feet above ground.
ADDRESSES
City of Bainbridge
Maps are available for inspection at City Hall, 107 Broad Street, Bainbridge, GA 39817.
Unincorporated Areas of Decatur County
Maps are available for inspection at the Decatur County Planning Department, 309 Airport Road, Bainbridge, GA 39817.
Dougherty County, Georgia, and Incorporated Areas
FEMA Docket No.: B-1017
Dry Creek | Approximately 150 feet upstream of Liberty Expressway | +184 | Unincorporated Areas of Dougherty County.
| At Liberty Expressway | +184
Dry Creek Tributary 1 | Approximately 1,875 feet downstream of Moultrie Road | +238 | Unincorporated Areas of Dougherty County.
| Approximately 1,275 feet upstream of Moultrie Road | +249
Dry Creek Tributary 4 | Approximately 2,400 feet downstream of US Highway 19 | +174 | Unincorporated Areas of Dougherty County.
| Approximately 4,136 feet downstream of US Highway 19 | +174
* National Geodetic Vertical Datum.
+ North American Vertical Datum.
# Depth in feet above ground.
ADDRESSES
Unincorporated Areas of Dougherty County
Maps are available for inspection at 222 Pine Avenue, Albany, GA 31702.
Floyd County, Georgia, and Incorporated Areas
FEMA Docket No.: B-7475
Booze Creek | Approximately 350 feet upstream of the confluence with Silver Creek | +638 | Unincorporated Areas of Floyd County.
| Approximately 840 feet upstream of the confluence with Silver Creek | +638
Big Dry Creek | Just upstream of Martha Berry Road | +597 | Unincorporated Areas of Floyd County, City of Rome.
| At the confluence of Tributary 1 to Big Dry Creek | +597
Big Dry Creek Tributary 1 | At the confluence with Big Dry Creek | +597 | Unincorporated Areas of Floyd County, City of Rome.
| Approximately 2,500 feet upstream of CCC Road | +604
Big Dry Creek Tributary 2 | At confluence with Tributary 1 to Big Dry Creek | +597 | Unincorporated Areas of Floyd County, City of Rome.
| Approximately 200 feet upstream of Lindsey Road NW | +603
Silver Creek | At the confluence with Etowah River | +596 | City of Rome.
| Approximately 2,000 feet upstream of the confluence with Etowah River | +596
South Fork Horseleg | At the confluence with Horseleg Creek | +608 | Unincorporated Areas of Floyd County, City of Rome.
| Approximately 100 feet upstream of the confluence with Horseleg Creek | +608
* National Geodetic Vertical Datum.
+ North American Vertical Datum.
# Depth in feet above ground.
¹ The existing elevation data included on the effective FIRM is printed in the elevation datum of the National Geodetic Vertical Datum of 1929 (NGVD29). In order to convert this printed elevation data from the NGVD29 datum to the NAVD88 datum, please add 0.12 feet.
ADDRESSES
Unincorporated Areas of Floyd County
Maps are available for inspection at the Rome-Floyd County Building Inspection Department, 607 Broad Street, Rome, GA 30161.
City of Rome
Maps are available for inspection at the Rome-Floyd County Building Inspection Department, 607 Broad Street, Rome, GA 30161.
Lamar County, Georgia, and Incorporated Areas
FEMA Docket No.: B-1017
Tobesofkee Creek | Approximately 204 feet downstream of Barnesville Corporate Limits | +764 | Unincorporated Areas of Lamar County.
| Approximately 1 foot downstream of Barnesville Corporate Limits | +765
* National Geodetic Vertical Datum.
+ North American Vertical Datum.
# Depth in feet above ground.
ADDRESSES
Unincorporated Areas of Lamar County
Maps are available for inspection at 326 Thomaston Street, Lamar, GA 30204.
Mitchell County, Georgia, and Incorporated Areas
FEMA Docket No.: B-1017
Big Slough | Upstream just within Camilla city limits | +161 | Unincorporated Areas of Mitchell County.
| Directly downstream of US Hwy 19 | +163
| Directly upstream of US Hwy 19 | +165
| Upstream of Sylvester Road | +169
Big Slough Tributary 10 | Downstream of Moultrie Road | +169 | Unincorporated Areas of Mitchell County.
| Upstream of S MacArthur Drive | +175
* National Geodetic Vertical Datum.
+ North American Vertical Datum.
# Depth in feet above ground.
ADDRESSES
Unincorporated Areas of Mitchell County
Maps are available for inspection at P.O. Box 187, Camilla, GA 31730.
Seminole County, Georgia, and Incorporated Areas
FEMA Docket No.: B-1014
Chattahoochee River | At Lake Seminole | +81 | Unincorporated Areas of Seminole County.
| Approximately 1.6 miles upstream of State Highway 91 | +97
Lake Seminole/Spring Creek | Flooding area bound by Cypress Pond Road to the north, Georgia/Florida state line to the west and south, and the Seminole/Decatur county boundary to the east | +81 | Unincorporated Areas of Seminole County.
* National Geodetic Vertical Datum.
+ North American Vertical Datum.
# Depth in feet above ground.
ADDRESSES
Unincorporated Areas of Seminole County
Maps are available for inspection at the County Courthouse, 200 South Knox Avenue, Donalsonville, GA 39845.
Thomas County, Georgia, and Incorporated Areas
FEMA Docket No.: B-1017
Gatling Branch Tributary 11 | Approximately 40 feet upstream of Pine Tree Boulevard | +262 | Unincorporated Areas of Thomas County, City of Thomasville.
| Approximately 128 feet downstream of Pine Tree Boulevard | +262
Wards Creek | Approximately 1,900 feet downstream of Habersham Road | +220 | City of Thomasville, Unincorporated Areas of Thomas County.
| Approximately 469 feet upstream of Habersham Road | +232
* National Geodetic Vertical Datum.
+ North American Vertical Datum.
# Depth in feet above ground.
ADDRESSES
City of Thomasville
Maps are available for inspection at 111 Victoria Place, Thomasville, GA 31799.
Unincorporated Areas of Thomas County
Maps are available for inspection at P.O. Box 920, Thomasville, GA 31799.
Upson County, Georgia, and Incorporated Areas
FEMA Docket No.: B-1017
Bell Creek | Approximately 1,990 feet upstream of Raines Street | +584 | Unincorporated Areas of Upson County.
| Approximately 1,800 feet downstream of Raines Street | +605
Potato Creek | Approximately 50 feet downstream of Crest Highway | +616 | Unincorporated Areas of Upson County.
| Approximately 5,400 feet upstream of Crest Highway | +637
Potato Creek Tributary | At Jeff Davis Road | +712 | Unincorporated Areas of Upson County.
| Approximately 100 feet upstream of Jeff Davis Road | +714
Town Branch | Approximately 5,461 feet downstream of Davis Lake Road | +584 | Unincorporated Areas of Upson County.
| Approximately 4,600 feet upstream of Davis Lake Road | +652
* National Geodetic Vertical Datum.
+ North American Vertical Datum.
# Depth in feet above ground.
ADDRESSES
Unincorporated Areas of Upson County
Maps are available for inspection at P.O. Box 889, Thomaston, GA 30286.
Worth County, Georgia, and Incorporated Areas
FEMA Docket No.: B-1017
Town Creek Tributary 2 | Approximately 270 feet upstream of Young Street | +358 | Unincorporated Areas of Worth County.
| Approximately 10 feet upstream of West Franklin Street | +364
* National Geodetic Vertical Datum.
+ North American Vertical Datum.
# Depth in feet above ground.
ADDRESSES
Unincorporated Areas of Worth County
Maps are available for inspection at 201 North Main Street, Sylvester, GA 31791.
Unincorporated Areas of Maui County, Hawaii
Docket No.: FEMA-B-1002
Kaluaihakoko Stream | Approximately 25 feet upstream of confluence with Pacific Ocean | ‸3 | Unincorporated Areas of Maui County.
| Approximately 500 feet upstream of Piilani Highway | ‸138
Kamaole Gulch | Approximately 90 feet upstream of confluence with Pacific Ocean | ‸6 | Unincorporated Areas of Maui County.
| Approximately 325 feet upstream of Piilani Highway | ‸120
Waikapu Stream | Approximately 255 feet downstream of Kuihelani Highway | ‸191 | Unincorporated Areas of Maui County.
| Approximately 1.6 miles upstream of Honoapiilani Highway | ‸781
* National Geodetic Vertical Datum.
+ North American Vertical Datum.
# Depth in feet above ground.
‸ Local Tidal Datum.
ADDRESSES
Unincorporated Areas of Maui County
Maps are available for inspection at the Maui County Planning Department, 250 South High Street, 2nd Floor, Wailuku, HI 96793.
Hendricks County, Indiana, and Incorporated Areas
FEMA Docket No.: B-7752
Abner Creek | At the confluence with White Lick Creek | +751 | Unincorporated Areas of Hendricks County.
| Approximately 800 feet downstream of South County Road 525 East | +751
Clarks Creek | At the confluence with White Lick Creek | +693 | Unincorporated Areas of Hendricks County.
| Approximately 1,450 feet upstream of South Center Street | +694
Cosner Branch | At the confluence with West Fork White Lick Creek | +748 | Unincorporated Areas of Hendricks County.
| Approximately 600 feet upstream of the confluence with West Fork White Lick Creek | +750
Hughes Branch | Approximately 680 feet upstream of the confluence with Little West Fork White Lick Creek | +866 | Unincorporated Areas of Hendricks County.
| Approximately 4,570 feet upstream of County road 651 North | +936
Keeney Ditch | At the confluence with Little West Fork White Lick Creek | +931 | Unincorporated Areas of Hendricks County.
| Approximately 4,580 feet upstream of North County Road 275 East | +943
Little West Fork White Lick Creek | At the confluence with White Lick Creek | +848 | Unincorporated Areas of Hendricks County, Town of Brownsburg, Town of Pittsboro.
| Approximately 3,385 feet upstream of East County Road 1000 North | +941
Ross Ditch | Approximately 740 feet downstream of North County Road 200 West | +929 | Unincorporated Areas of Hendricks County, Town of Lizton.
| Approximately 3,985 feet upstream of North County Road 150 East | +949
Thompson Creek | Approximately 140 feet upstream of the confluence with West Fork White Lick Creek | +863 | Unincorporated Areas of Hendricks County.
| Approximately 550 feet upstream of the confluence with West Fork White Lick Creek | +864
West Fork White Lick Creek | At the confluence with White Lick Creek | +677 | Unincorporated Areas of Hendricks County.
| Approximately 2,100 feet upstream of the confluence with White Lick Creek | +680
West Fork White Lick Creek Tributary No. 1 | Approximately 300 feet upstream of the confluence with West Fork White Lick Creek | +706 | Unincorporated Areas of Hendricks County.
| Approximately 2,750 feet upstream of the confluence with West Fork White Lick Creek | +713
White Lick Creek | At the Morgan County boundary/East Hendricks County Road | +677 | Unincorporated Areas of Hendricks County, Town of Avon, Town of Brownsburg, Town of Plainfield.
| Approximately 7,400 feet upstream of East County Road 1000 North | +915
White Lick Creek Tributary No. 3 | At the confluence with White Lick Creek | +774 | Unincorporated Areas of Hendricks County, Town of Avon.
| Approximately 250 feet upstream of the confluence with White Lick Creek | +774
White Lick Creek Tributary No. 4 | At the confluence with White Lick Creek | +783 | Unincorporated Areas of Hendricks County.
| Approximately 150 feet downstream of County Road 91 North | +789
* National Geodetic Vertical Datum.
+ North American Vertical Datum.
# Depth in feet above ground.
ADDRESSES
Town of Avon
Maps are available for inspection at 6570 East U.S. Highway 36, Avon, IN 46123.
Town of Brownsburg
Maps are available for inspection at 80 East Vermont, Brownsburg, IN 46112.
Town of Lizton
Maps are available for inspection at 106 North Lebanon Street, Lizton, IN 46149.
Town of Pittsboro
Maps are available for inspection at 80 North Meridian Street, Pittsboro, IN 46167.
Town of Plainfield
Maps are available for inspection at 355 South Washington Street, Danville, IN 46122.
Unincorporated Areas of Hendricks County
Maps are available for inspection at 355 South Washington Street, Danville, IN 46122.
Tippecanoe County, Indiana, and Incorporated Areas
FEMA Docket No.: B-7762
Cole Ditch | At its confluence with Burnett Creek | +627 | Unincorporated Areas of Tippecanoe County.
| Approximately 4,000 feet upstream of County Road 150 | +669
Cole Ditch Unnamed Tributary 1 | At its confluence with Cole Ditch | +647 | Unincorporated Areas of Tippecanoe County, City of West Lafayette.
| Approximately 1,250 feet upstream of Kalberger Road | +694
Cole Ditch Unnamed Tributary 2 | At its confluence with Cole Ditch | +628 | Unincorporated Areas of Tippecanoe County.
| Approximately 1,340 feet upstream of County Road 500 | +655
Cuppy Ditch | At its confluence with Cole Ditch | +649 | Unincorporated Areas of Tippecanoe County.
| Approximately 50 feet upstream of Morehouse Road | +655
East Branch Wea Creek | At its confluence with Wea Creek | +684 | Unincorporated Areas of Tippecanoe County.
| Approximately 50 feet upstream of County Road 500 | +756
Indian Creek | Approximately 2,900 feet downstream of County Road 400 | +631 | Unincorporated Areas of Tippecanoe County.
| Approximately 1,775 feet upstream of U.S. Highway 52 | +654
Tippecanoe River | At its confluence with the Wabash River | +538 | Unincorporated Areas of Tippecanoe County.
| At the County Boundary | +544
* National Geodetic Vertical Datum.
+ North American Vertical Datum.
# Depth in feet above ground.
ADDRESSES
City of West Lafayette
Maps are available for inspection at the Area Plan Commission of Tippecanoe County, 20 North 3rd Street, Lafayette, IN 47901.
Unincorporated Areas of Tippecanoe County
Maps are available for inspection at the Area Plan Commission of Tippecanoe County, 20 North 3rd Street, Lafayette, IN 47901.
Allen County, Kansas, and Incorporated Areas
FEMA Docket No.: B-1002
Coon Creek | Approximately 0.60 mile downstream of Highway 54 | +954 | City of Iola, Unincorporated Areas of Allen County.
| Approximately 115 feet upstream of North Kentucky Street | +988
* National Geodetic Vertical Datum.
+ North American Vertical Datum.
# Depth in feet above ground.
ADDRESSES
City of Iola
Maps are available for inspection at 2 West Jackson Avenue, Iola, KS 66749.
Unincorporated Areas of Allen County
Maps are available for inspection at 1 North Washington Avenue, Iola, KS 66749.
Genesee County, Michigan, and Incorporated Areas
FEMA Docket No.: B-7774
Armstrong Creek | Downstream side of Francis Road | +682 | Township of Flushing, Township of Montrose.
| Approximately 2100 feet upstream of Stanley Road | +708
Copneconic Lake | Entire shoreline of Copneconic Lake | +846 | Township of Fenton.
Fenwin Pond | Entire shoreline of Fenwin Pond | +837 | Township of Mundy.
Lum Drain | Downstream side of Moorish Road | +778 | Township of Gaines.
| Upstream side of Elms Road | +783
Pierson Branch of Thread Creek | Approximately 680 feet downstream of S Center Road | +766 | City of Burton.
| Approximately 1500 feet downstream of E Maple Avenue | +822
Shinanguag Lake | Entire shoreline of Shinanguag Lake | +890 | Township of Atlas.
* National Geodetic Vertical Datum.
+ North American Vertical Datum.
# Depth in feet above ground.
ADDRESSES
City of Burton
Maps are available for inspection at 4303 South Center Road, Burton, MI 48519.
Township of Atlas
Maps are available for inspection at 7386 Gale Road, Goodrich, MI 48439.
Township of Fenton
Maps are available for inspection at 12060 Mantawauka Drive, Fenton, MI 48430.
Township of Flushing
Maps are available for inspection at 6524 North Seymour Road, Flushing, MI 48433.
Township of Gaines
Maps are available for inspection at 9255 Grand Blanc Road, Gaines, MI 48436.
Township of Montrose
Maps are available for inspection at 139 South Saginaw Street, Montrose, MI 48457.
Township of Mundy
Maps are available for inspection at 3478 Mundy Avenue, Swartz Creek, MI 48473.
Brown County, Minnesota, and Incorporated Areas
FEMA Docket No.: B-7751
Minnesota River | Approximately 5,530 feet downstream of Dakota, Minnesota, and Eastern Railroad | +807 | City of New Ulm, Unincorporated Areas of Brown County.
| Approximately 1,673 feet upstream of county boundary | +825
* National Geodetic Vertical Datum.
+ North American Vertical Datum.
# Depth in feet above ground.
ADDRESSES
City of New Ulm
Maps are available for inspection at 100 North Broadway, New Ulm, MN 56073.
Unincorporated Areas of Brown County
Maps are available for inspection at 14 South State Street, New Ulm, MN 56073.
Goodhue County, Minnesota, and Incorporated Areas
FEMA Docket No.: B-7755
Belle Creek | At the confluence with the Cannon River | +709 | Unincorporated Areas of Goodhue County.
| Approximately 8,050 feet upstream of 390th Street | +1149
Cannon River | Approximately 4,570 feet upstream of Railroad Bridge | +686 | Unincorporated Areas of Goodhue County, City of Cannon Falls, City of Red Wing.
| Approximatley 8,120 feet upstream of State Highway 56 | +873
Gilbert Creek | Approximately 115 feet upstream of Railroad Bridge | +689 | Unincorporated Areas of Goodhue County.
| Approximately 980 feet upstream of County 5 Boulevard | +695
Hay Creek | Approximately 400 feet upstream of Old West Main Street | +689 | Unincorporated Areas of Goodhue County, City of Red Wing.
| Approximately 3,630 feet upstream of 350th Street | +1063
Little Cannon River | At the confluence with the Cannon River | +790 | Unincorporated Areas of Goodhue County, City of Cannon Falls.
| Approximately 7,045 feet upstream of 20th Avenue | +1094
Mississippi River | Located at the Goodhue/Wabasha County Line | +681 | Unincorporated Areas of Goodhue County, City of Lake City, City of Red Wing.
| Located at the Goodhue/Dakota County Line | +688
North Fork Zumbro River | Approximately 7,370 feet downstream of Main Street | +1008 | Unincorporated Areas of Goodhue County, City of Wanamingo.
| Approximately 3,830 feet upstream of Main Street | +1022
Pine Island Creek | Approximately 8,550 feet downstream of 230th Avenue | +996 | Unincorporated Areas of Goodhue County.
| Approximately 1,790 feet upstream of County 43 Boulevard | +1132
Wells Creek | At the confluence with the Mississippi River | +682 | Unincorporated Areas of Goodhue County.
| Approximately 6,000 feet upstream of County 45 Boulevard | +855
* National Geodetic Vertical Datum.
+ North American Vertical Datum.
# Depth in feet above ground.
ADDRESSES
City of Cannon Falls
Maps are available for inspection at the City Offices Building, 918 River Road, Cannon Falls, MN 55009.
City of Lake City
Maps are available for inspection at City Hall, 205 West Center Street, Lake City, MN 55041.
City of Red Wing
Maps are available for inspection at the Community Development Building, 419 Bush Street, Red Wing, MN 55066.
City of Wanamingo
Maps are available for inspection at City Hall, 401 Main Street, Wanamingo, MN 55983.
Unincorporated Areas of Goodhue County
Maps are available for inspection at the Land Use Management Office, Room 102, 509 West 5th Street, Red Wing, MN 55066.
Renville County, Minnesota, and Incorporated Areas
FEMA Docket No.: B-7773
Minnesota River | Approximately 4,850 feet downstream of the Nicollet County Boundary | +819 | City of Franklin, City of Morton, Unincorporated Areas of Renville County.
| Approximately 4,600 feet upstream of the Chippewa County Boundary | +883
* National Geodetic Vertical Datum.
+ North American Vertical Datum.
# Depth in feet above ground.
ADDRESSES
City of Franklin
Maps are available for inspection at City Hall, 320 Second Avenue East, Franklin, MN 55333.
City of Morton
Maps are available for inspection at City Hall, 221 West 2nd Street, Morton, MN 56270.
Unincorporated Areas of Renville County
Maps are available for inspection at the Renville County Office Building, 105 South 5th Street, Room 311, Olivia, MN 56277.
Hillsborough County, New Hampshire, and Incorporated Areas
FEMA Docket No.: B-1017
Baboosic Brook | At confluence with Souhegan River | +118 | Town of Bedford, Town of Merrimack.
| Approximately 1,150 feet downstream of Stowell Road | +221
Chase Brook | Just upstream of State Route 3A | +136 | Town of Litchfield.
| Approximately 100 feet upstream of Pilgrim Road | +174
Contoocook River | Approximately 1.52 miles upstream of Boston and Maine Railroad | +594 | Town of Hillsborough, Town of Peterborough.
| Approximately 1.37 miles upstream of Drury Road | +854
Gumpas Road Brook | Just upstream of Marsh Road | +137 | Town of Pelham.
| Just upstream of Debbie Drive | +167
Naticook Brook | At U.S. Route 3 | +117 | Town of Merrimack.
| Approximately 70 feet downstream of Naticook Lake Outlet | +204
Nesenkeag Brook | Approximately 100 feet downstream of State Route 3A | +120 | Town of Litchfield.
| Approximately 1 mile upstream of Albuquerque Boulevard | +182
Nubanusit Brook | At confluence with Contoocook River | +722 | Town of Peterborough.
| Approximately 30 feet upstream of Wilder Street | +863
Otter Brook | Approximately 450 feet downstream of State Route 136 | +703 | Town of Peterborough, Town of Greenfield.
| Approximately 2,300 feet upstream of the confluence of Otter Lake Brook | +801
Pennichuck Brook | Just upstream of Harris Pond Dam | +142 | City of Nashua.
| Just downstream of Pennichuck Pond Outlet | +189
Salmon Brook | At confluence with Merrimack River | +112 | City of Nashua.
| Approximately 2,800 feet upstream of Ridge Road Bridge | +156
Second Brook | Approximately 400 feet upstream of Radcliffe Road | +112 | Town of Hudson.
| Approximately 40 feet upstream of Wason Road | +177
Pointer Club Brook | Approximately 480 feet downstream of U.S. Highway 3 | +146 | Town of Merrimack.
| Just downstream of F.E. Everett Turnpike | +155
Stony Brook | Just downstream of Small Dam | +820 | Town of Lyndeborough.
| Approximately 2,600 feet downstream of School House Road | +825
Tributary B No. 1 | At confluence with Chase Brook | +170 | Town of Litchfield.
| Just upstream of State Route 102 | +193
Tributary B No. 2 | Approximately 400 feet upstream of Forest Road | +820 | Town of Greenfield.
| Approximately 2,600 feet upstream of Forest Road | +835
Naticook Lake | For the entire Lake | +208 | Town of Merrimack.
* National Geodetic Vertical Datum.
+ North American Vertical Datum.
# Depth in feet above ground.
ADDRESSES
Town of Bedford
Maps are available for inspection at the Bedford Town Planning Department, 24 North Amherst Road, Bedford, NH 03110.
Town of Greenfield
Maps are available for inspection at the Greenfield Town Hall, 7 Sawmill Road, Greenfield, NH 03047.
Town of Hillsborough
Maps are available for inspection at the Hillsborough Town Planning Department, 29 School Street, Hillsborough, NH 03244.
Town of Hudson
Maps are available for inspection at the Hudson Town Planning Department, 12 School Street, Hudson, NH 03051.
Town of Litchfield
Maps are available for inspection at the Litchfield Town Hall, 2 Liberty Way, Suite 1, Litchfield, NH 03052.
Town of Lyndeborough
Maps are available for inspection at the Lyndeborough Town Hall, 9 Citizens Hall Road, Lyndeborough, NH 03082.
Town of Merrimack
Maps are available for inspection at the Merrimack Town Hall, 6 Baboosic Lake Road, Merrimack, NH 03054.
City of Nashua
Maps are available for inspection at the City of Nashua Planning Department, 229 Main Street, Nashua, NH 03060.
Town of Pelham
Maps are available for inspection at the Town of Pelham Planning Department, 6 Village Green, Pelham, NH 03076.
Town of Peterborough
Maps are available for inspection at the Town of Peterborough Planning Department, One Grove Street, Peterborough, NH 03458.
Hunterdon County, New Jersey, and Incorporated Areas
FEMA Docket No.: B-1003
Back Brook | Upstream of Van Lieu's Rd | +119 | Township of East Amwell.
| Upstream of Route 179 | +195
First Neshanic River | Downstream of U.S. Route 202 | +148 | Township of Raritan.
| Upstream of Railroad | +160
Holland Brook | Downstream of Hillcrest/Centerville Rd | +101 | Township of Readington.
| Upstream of Holland Brook Rd | +148
Neshanic River | Downstream of Rainbow Hill Rd | +104 | Township of East Amwell.
| Downstream of Old York Rd | +125
Neshanic River | Upstream of Everitt Rd | +128 | Township of Raritan.
| Downstream of Kuhl Rd | +137
Second Neshanic River | Upstream of U.S. Route 202 | +143 | Township of Raritan.
| Upstream of Joanna Farm Rd | +172
South Branch Raritan River | Downstream of Old York Rd | +97 | Township of Raritan.
| Downstream of Railroad | +107
South Branch Raritan River | Upstream of Higginsville Rd | +92 | Township of Readington.
| Downstream of Rockafellows Mills Rd | +104
Third Neshanic River | Downstream of U.S. Route 202 | +140 | Township of Raritan.
| Upstream of Everitt Rd | +152
Walnut Brook | Upstream of Railroad | +160 | Township of Raritan.
| Upstream of Mine Rd | +191
Walnut Brook | Upstream of Corporate Limits | +170 | Borough of Flemington.
| Upstream State Route 12 | +180
* National Geodetic Vertical Datum.
+ North American Vertical Datum.
# Depth in feet above ground.
ADDRESSES
Borough of Flemington
Maps are available for inspection at the Borough Hall, 38 Park Avenue, Flemington, NJ 08822.
Township of East Amwell
Maps are available for inspection at the Municipal Building, 1070 Route 202/31, Ringoes, NJ 08551-1051.
Township of Raritan
Maps are available for inspection at the Municipal Building, 1 Municipal Drive, Flemington, NJ 08822.
Township of Readington
Maps are available for inspection at the Municipal Building, 509 Route 523, Whitehouse Station, NJ 08889.
Monmouth County, New Jersey, and Incorporated Areas
Docket No.: FEMA-B-7783
Big Brook | At Boundary Road | +79 | Township of Colts Neck.
| Approximately 34 feet upstream of Boundary Road | +79
Burkes Creek | Approximately 957 feet upstream of Rutgers Road | +100 | Township of Howell.
| Approximately 904 feet upstream of Rutgers Road | +100
Deal Lake | Entire shoreline | +10 | Borough of Interlaken.
Deal Tributary 1 | At Wickapecko Drive | +11 | Borough of Interlaken.
| Approximately 342 feet downstream of Wickapecko Drive | +11
Doctors Creek | Approximately 915 feet upstream of South Main Street | +72 | Township of Upper Freehold.
| Approximately 2,565 feet upstream of South Main Street | +72
| At Breza Road | +60
| Approximately 57 feet upstream of Breza Road | +60
Hollow Brook | Approximately 133 feet upstream of Ridge Avenue | +13 | City of Asbury Park.
| Approximately 176 feet upstream of Ridge Avenue | +13
Little Silver Creek Tributary 2B | Approximately 95 feet downstream of Harding Road | +14 | Borough of Little Silver.
| Approximately 40 feet upstream of Harding Road | +24
Manalapan Brook | At County boundary | +76 | Township of Manalapan, Township of Millstone.
| Approximately 510 feet upstream of Moonlight Court | +181
Manalapan Brook Tributary A | At confluence with Manalapan Brook | +87 | Township of Manalapan.
| Approximately 1,000 feet upstream of confluence with Manalapan Brook | +89
Manalapan Brook Tributary B | At confluence with Manalapan Brook | +123 | Township of Manalapan.
| Approximately 220 feet upstream of confluence with Manalapan Brook | +123
Musquash Brook | Approximately 3,350 feet downstream of Brighton Avenue | +9 | Borough of Neptune City.
| Approximately 40 feet downstream of Brighton Avenue | +23
North Branch Wreck Pond | At Railroad | +8 | Borough of Spring Lake Heights.
| Approximately 1,147 feet upstream of State Highway 71 | +8
Poly Pond Brook | Approximately 944 feet downstream of State Highway 71 | +17 | Borough of Spring Lake Heights.
| Approximately 1,563 feet upstream of State Highway 71 | +17
Raritan Bay | Approximately 1,035 feet east of Rose Lane | +11 | Township of Hazlet, Borough of Keansburg, Borough of Union Beach, Township of Middletown.
| Approximately 570 feet northwest of the intersection of State Highway 36 and Laurel Avenue | +11
| Approximately 480 feet east of William Street | +11
| Approximately 1,570 feet south of the intersection of State Highway 36 and Thompson Avenue | +11
Shark River | Approximately 235 feet downstream of Steiner Avenue | +9 | Borough of Neptune City.
| Approximately 1,450 feet downstream of County Highway 17 | +9
Still House Brook | At confluence with Manalapan Brook | +93 | Township of Manalapan.
| Approximately 600 feet upstream of confluence with Manalapan Brook | +93
Swimming River | At Swimming River Road | +22 | Township of Colts Neck.
Thornes Creek | At Raritan and Sandy Hook Bay Beach Erosion and Hurricane Project Closure Gate | +11 | Township of Hazlet, Borough of Union Beach.
| At State Highway 36 | +11
Waackaack Creek | At Raritan and Sandy Hook Bay Beach Erosion and Hurricane Project Closure Gate | +11 | Township of Hazlet, Borough of Keansburg, Borough of Union Beach, Township of Holmdel.
| Approximately 800 feet downstream of Middle Road | +11
Watson Creek | Approximately 1,150 feet downstream of Blansing Avenue Extension | +20 | Borough of Manasquan.
| Approximately 960 feet downstream of Blansing Avenue Extension | +20
Whale Pond Brook | At Hope Road | +73 | Borough of Tinton Falls.
| Approximately 54 feet upstream of Hope Road | +73
Yellow Brook 2 | Approximately 600 feet downstream of Hunt Road | +98 | Township of Colts Neck.
| Approximately 124 feet downstream of Hunt Road | +98
* National Geodetic Vertical Datum.
+ North American Vertical Datum.
# Depth in feet above ground.
ADDRESSES
Borough of Interlaken
Maps are available for inspection at the Interlaken Borough Hall, 100 Grasmere Avenue, Interlaken, NJ 07712.
Borough of Keansburg
Maps are available for inspection at the Keansburg Borough Municipal Building, 29 Church Street, Keansburg, NJ 07734.
Borough of Little Silver
Maps are available for inspection at the Little Silver Borough Hall, 480 Prospect Avenue, Little Silver, NJ 07739.
Borough of Manasquan
Maps are available for inspection at the Manasquan Borough Municipal Building, 201 East Main Street, Manasquan, NJ 08736.
Borough of Neptune City
Maps are available for inspection at the Borough of Neptune City Municipal Building, 106 West Sylvania Avenue, Neptune City, NJ 07753.
Borough of Spring Lake Heights
Maps are available for inspection at the Spring Lake Heights Borough Hall, 555 Brighton Avenue, Spring Lake Heights, NJ 07762.
Borough of Tinton Falls
Maps are available for inspection at the Tinton Falls Borough Municipal Building, 556 Tinton Avenue, Tinton Falls, NJ 07724.
Borough of Union Beach
Maps are available for inspection at the Union Beach Borough Municipal Building, 650 Poole Avenue, Union Beach, NJ 07735.
City of Asbury Park
Maps are available for inspection at the City of Asbury Park Municipal Building, 1 Municipal Plaza, Asbury Park, NJ 07712.
Township of Colts Neck
Maps are available for inspection at the Colts Neck Town Hall, 124 Cedar Drive, Colts Neck, NJ 07722.
Township of Hazlet
Maps are available for inspection at the Hazlet Township Municipal Building, 1766 Union Avenue, Hazlet, NJ 07730.
Township of Holmdel
Maps are available for inspection at the Holmdel Township Hall, 4 Crawfords Corner Road, Holmdel, NJ 07733.
Township of Howell
Maps are available for inspection at the Howell Township Municipal Building, 251 Preventorium Road, Howell, NJ 07731.
Township of Manalapan
Maps are available for inspection at the Manalapan Township Municipal Building, 120 Route 522 and Taylors Mill Road, Manalapan, NJ 07726.
Township of Middletown
Maps are available for inspection at the Middletown Township Municipal Building, 1 Kings Highway, Middletown, NJ 07748.
Township of Millstone
Maps are available for inspection at the Millstone Township Municipal Building, 470 Stagecoach Road, Millstone, NJ 08510.
Township of Upper Freehold
Maps are available for inspection at the Upper Freehold Township Municipal Building, 314 Route 539, Cream Ridge, NJ 08514.
Suffolk County, New York, and Incorporated Areas
Docket No.: FEMA-B-1012
Atlantic Ocean | Approximately 700 feet west of the Oak Beach Road dead end | +8 | Town of Babylon, Shinnecock Indian Reservation, Town of Brookhaven, Town of East Hampton, Town of Islip, Town of Southampton, Village of Amityville, Village of Babylon, Village of Bellport, Village of East Hampton, Village of Lindenhurst, Village of Ocean Beach, Village of Quogue, Village of Sagaponack, Village of Saltaire, Village of Southampton, Village of West Hampton Dunes, Village of Westhampton Beach.
| Approximately 160 feet south of Beach Lane extended | +23
Barley Field Cove | Approximately 1,000 feet east of the intersection of East End Drive and Brooks Point Road | +8 | Town of Southold.
| Shoreline approximately 1,425 feet east of the intersection of East End Drive and Brooks Point Road | +16
Bellport Bay | At the intersection of Thorn Hedge Road and Bayberry Road | +5 | Village of Bellport, Town of Brookhaven, Village of Patchogue.
| Shoreline at southwestern end of South Howells Point Road | +8
Block Island Sound | Approximately 850 feet northwest of the intersection of Montauk County Park Road and East Lake Drive | +5 | Town of East Hampton, Town of Southold.
| Fishers Island—Shoreline approximately 900 feet east of the intersection of Montauk Highway and Old Montauk Highway | +21
Block Island Sound | Approximately 1,700 feet southwest of the intersection of Soundview Drive and Captain Kidd's Path | #2 | Town of East Hampton.
Bostwick Bay | Gardiners Island—Approximately 1.4 miles northwest of the intersection of Gardiner Island Road and 4wd Road | +7 | Town of East Hampton.
| Gardiners Island—Approximately 1.2 miles northwest of the intersection of Gardiner Island Road and 4wd Road | +12
Centerport Harbor | Approximately 500 feet south of the intersection of Prospect Road and Mill Dam Road | +9 | Town of Huntington, Village of Huntington Bay, Village of North Haven.
| Shoreline approximately 1,500 feet northeast of the intersection of Monroe Drive and Garfield Street | +14
Cocomount Cove | Approximately 500 feet northwest of the intersection of East End Drive and Brooks Point Road | +8 | Town of Southold.
| Shoreline approximately 735 feet northwest of the intersection of East End Drive and Brooks Point Road | +13
Coecles Inlet | Burns Road, approximately 1,200 feet east of the intersection with North Cartwright Avenue | +7 | Town of Shelter Island, Village of Dering Harbor.
| Shoreline at eastern end of Burns Road | +10
Cold Spring Harbor | Approximately 150 feet north of the intersection of Shore Road and Spring Street | +9 | Town of Huntington.
| Approximately 1,325 feet west of the intersection of Dogwood Lane and Fort Hill Drive | +33
Conscience Bay | Approximately 175 feet southwest of the intersection of Bobs Lane and Chickadee Way | +8 | Town of Brookhaven, Village of Old Field, Village of Poquott, Village of Port Jefferson.
| Shoreline approximately 1,340 feet west of the intersection of Gaul Road North and Gun Path | +14
Cutchogue Harbor | Shoreline approximately 50 feet west of the intersection of Skunk Lane and Sterling Road | +6 | Town of Southold.
| Shoreline approximately 1,260 feet south of the intersection of Haywaters Road and West Cove Road | +16
| At the intersection of Orchard Street and 1st Street | #1
| Approximately 65 feet northwest of the southeastern terminus of Old Harbor Road | #2
Dering Harbor | Approximately 700 feet east of the intersection of North Ferry Road and W Neck Road | +5 | Town of Shelter Island, Village of Dering Harbor, Village of Greenport.
| Shoreline approximately 540 feet north of the intersection of North Ferry Road and Winthrop Road | +17
Duck Island Harbor | Approximately 200 feet east of the end of South Harbor Road | +11 | Town of Huntington, Village of Asharoken, Village of Huntington Bay, Village of Northport.
| Approximately 1,200 feet southeast of the intersection of Ponnell Road and South Harbor Road | +16
Fishers Island Sound | Approximately 1,400 feet north of the intersection of East End Drive and Clay Point Road | +7 | Town of Southold.
| Approximately 1,600 feet northwest of the intersection of Fox Avenue and Crescent Avenue | +46
Flanders Bay | At the intersection of Meeting House Creek Road and Harbor Road | +6 | Town of Riverhead, Town of Southampton.
| Shoreline approximately 1,850 feet east of the intersection of Indian Point Road and Circle Drive | +13
Flanders Bay | At the intersection of Indian Point Road and Circle Drive | #2 | Town of Riverhead.
| Approximately 75 feet east of the intersection of Harbor Road and Meeting House Creek Road | #2
Fort Pond Bay | Approximately 425 feet west of the intersection of South Erie Avenue and South Embassy Street | +5 | Town of East Hampton.
| Shoreline approximately 1,500 feet west of the end of Wills Point Road | +19
| Shoreline approximately 600 feet north of the end of Wills Point Road | #2
| Shoreline approximately 1,600 feet north of the end of Wills Point Road | #2
| Shoreline approximately 850 feet south of the end of Wills Point Road | #2
Gardiners Bay | Approximately 420 feet southwest of the intersection of Kings Point Road and Hog Creek Lane | +5 | Town of East Hampton, Town of Shelter Island, Town of Southold, Village of Dering Harbor.
| Along the shoreline, approximately 1,500 feet west of Plum Gut Harbor | +19
Great Peconic Bay | At the intersection of West Street and 2nd Street | +6 | Town of Riverhead, Town of Southampton, Town of Southold.
| Approximately 750 feet east 1st Street and Bray Avenue | +11
| West Street approximately 300 feet southeast of the intersection with 2nd Street | #1
| Oak Street approximately 175 feet southeast of the intersection with Bayside Avenue | #2
Great South Bay | Intersection of Gibson Street and Huma Avenue | +4 | Town of Babylon, Town of Islip, Village of Amityville, Village of Babylon, Village of Brightwaters, Village of Lindenhurst.
| At southern end of Norman Avenue | +10
Greenport Harbor | At the intersection of Sterling Avenue and Sterling Street | +6 | Town of Southold, Town of Shelter Island, Village of Greenport.
| Shoreline approximately 170 feet east-southeast of the intersection of Sterling Avenue and Sterling Street | +10
Hay Harbor | Approximately 300 feet north of the intersection of Equestrian Avenue and Winthrop Drive | +11 | Town of Southold.
| Approximately 0.5 mile north of the intersection of Equestrian Avenue and Winthrop Drive | +16
Huntington Bay | Approximately 50 feet south of the intersection of Surf Lane and Lighthouse Road | +9 | Town of Huntington, Village of Asharoken, Village of Huntington Bay, Village of Lloyd Harbor.
| Shoreline approximately 1,000 feet east of the end of Crescent Beach Drive | +21
Huntington Harbor | Approximately 400 feet south of the intersection of Bouton Road and Pine Point Road | +9 | Town of Huntington, Village of Huntington Bay, Village of Lloyd Harbor.
| Shoreline approximately 760 feet southeast of the intersection of Bouton Road and Pine Point Road | +12
Lake Montauk | Farragut Road, approximately 1,400 feet northeast of the intersection with West Lake Drive | +5 | Town of East Hampton.
| Approximately 350 feet west of the intersection of Prospect Hill Lane and East Lake Drive | +11
Little Peconic Bay | Approximately 350 feet south of the intersection of Arrowhead Lane and Campfire Lane | +6 | Town of Southold.
| Approximately 1,700 feet northeast of the intersection of Arrowhead Lane and Campfire Lane | +16
| Approximately 400 feet northeast of the intersection of Nassau Point Road and Broadwaters Road | #1
| Approximately 400 feet southeast of the intersection of Nassau Point Road and Broadwaters Road | #2
Lloyd Harbor | Approximately 700 feet west of the intersection of Lloyd Harbor Road and Fiddlers Green Drive | +9 | Village of Lloyd Harbor.
| Shoreline approximately 825 feet east-northeast of the intersection of Lloyd Harbor Road and Fiddlers Green Drive | +14
Long Island Sound | Approximately 1,300 feet north of the intersection of Main Road and Cove Beach Road | +6 | Village of Lloyd Harbor, Town of Brookhaven, Town of Huntington, Town of Riverhead, Town of Shelter Island, Town of Smithtown, Town of Southold, Village of Asharoken, Village of Belle Terre, Village of Dering Harbor, Village of Greenport, Village of Head of The Harbor, Village of Huntington Bay, Village of Nissequogue, Village of Northport, Village of Old Field, Village of Poquott, Village of Port Jefferson, Village of Shoreham.
| Approximately 500 feet west of East Point on Plum Island | +46
Long Island Sound | At the intersection of Carole Road and Old Cove Road | #2 | Town of Southold.
Majors Harbor | Along the shoreline, approximately 2,200 feet southeast from the end of Mashomack Preserve Road | +5 | Town of Shelter Island, Town of Southampton, Village of North Haven.
| Shoreline at Majors Point | +8
Moriches Bay | At the intersection of South County Road and Raynor Drive | +7 | Town of Brookhaven, Poospatuck Indian Reservation, Town of Southampton, Village of West Hampton Dunes, Village of Westhampton Beach.
| Shoreline, approximately 400 feet north of the intersection of Dune Road and Dune Lane | +12
Napeague Bay | Approximately 150 feet south of the intersection of Little Alberts Road and Alberts Landing | +5 | Town of East Hampton.
| Shoreline approximately 0.6 mile west of the intersection of Bayview Avenue and Lazy Point Road | +14
| Approximately 1,400 feet southeast of the intersection of Waters Edge and Barnes Hole Road | #1
Nicoll Bay | At the intersection of Cross Road and West Shore Road | +5 | Town of Islip.
| Approximately 700 feet south of the intersection of Shore Drive and Edgewood Avenue | +7
Northeast Branch Nissequogue River | Approximately 425 feet upstream of Branch Drive | +46 | Town of Smithtown.
| Approximately 525 feet upstream of Branch Drive | +46
Northport Bay | Approximately 45 feet west of the intersection of Eatons Neck Road and Steers Avenue | +9 | Town of Huntington, Village of Asharoken, Village of Huntington Bay, Village of Northport.
| Shoreline approximately 1,100 feet northeast of the intersection of East Neck Road and Crest Road | +21
Northport Harbor | At the intersection of Scudder Avenue and Bayview Avenue | +9 | Town of Huntington, Village of Northport.
| Approximately 1,400 feet northwest of the intersection of Bluff Point Road and Duffy Road | +16
Northwest Harbor | Approximately 500 feet north of the intersection of Alewife Brook Road and Terrys Trail | +5 | Town of East Hampton.
| Shoreline approximately 1,900 feet north of the western terminus of Alewife Brook Road | +19
Noyack Bay | At the intersection of Bay Avenue and Noyack Avenue | +6 | Town of Southampton, Village of North Haven, Village of Sag Harbor.
| Shoreline approximately 560 feet west of the intersection of Bay View Court and North Haven Way | +23
Orient Harbor | At the intersection of Bay Avenue and Rabbit Lane | +6 | Town of Southold, Town of Shelter Island, Village of Dering Harbor.
| Shoreline at the southeastern end of Bay Avenue | +9
| Approximately 875 feet northeast of the intersection of East Gillette Drive and Cleaves Point Road | #1
Oyster Bay | Approximately 150 feet north of the intersection of Shore Road and Spring Street | +9 | Town of Huntington, Village of Huntington Bay, Village of Lloyd Harbor.
| Approximately 750 feet southwest of Turtle Lane and Mallard Drive | +39
Patchogue Bay | At the intersection of Harrison Street and South Ocean Avenue | +5 | Village of Patchogue, Town of Brookhaven, Town of Islip.
| Shoreline at southern end of Durkee Lane | +8
Pipes Cove | Approximately 190 feet north of the intersection of Bayshore Road and August Road | +6 | Town of Southold, Town of Shelter Island, Village of Greenport.
| Shoreline approximately 220 feet east of the intersection of Bayshore Road and August Road | +13
Port Jefferson Harbor | Approximately 750 feet northwest of the intersection of Barnum Avenue and Maple Place | +8 | Town of Brookhaven, Village of Belle Terre, Village of Old Field, Village of Poquott, Village of Port Jefferson.
| Shoreline approximately 350 feet northeast of the intersection of Washington Street and Chestnut Avenue | +24
Reeves Bay | Approximately 100 feet south of the intersection of Flanders Road and Wood Road Trail | +7 | Town of Southampton, Town of Riverhead.
| Approximately 300 feet west of the intersection of Long Neck Boulevard and Fantasy Drive | +10
Sag Harbor Bay | Approximately 300 feet south of the intersection of Woodland Drive and Division Avenue | +6 | Village of Sag Harbor, Town of East Hampton, Village of North Haven.
| Shoreline approximately 190 feet north of the intersection of Meredith Avenue and Terry Drive | +13
Shelter Island Sound | Approximately 700 feet southwest of the intersection of Nostrand Parkway and Bootleggers Alley | +5 | Town of Shelter Island, Town of Southold, Village of North Haven.
| Approximately 550 feet west of the intersection of North Haven Way and On the Bluff | +23
Shelter Island Sound | Approximately 140 feet northwest of the intersection of Peconic Avenue and Brander Parkway | #1 | Town of Shelter Island, Town of Southold, Village of Dering Harbor, Village of North Haven.
| Approximately 800 feet west-southwest of the intersection of Nostrand Parkway and Bootleggers Alley | #2
Shinnecock Bay | Approximately 100 feet east of the intersection of Bonita Road and Whiting Road | +8 | Town of Southampton, Village of Quogue.
| Shoreline approximately 900 feet northeast of the intersection of Dune Road and Triton Lane | +14
Smith Cove | Approximately 370 feet north of the intersection of Thompson Road and Irene Lane | +5 | Town of Shelter Island, Village of North Haven.
| Approximately 700 feet southeast of the intersection of Thompson Road and Irene Lane | +21
Smithtown Bay | At the intersection of Riviera Drive and Magnolia Drive | +9 | Town of Smithtown, Village of Nissequogue.
| Approximately 1,200 feet north of the intersection of Old Dock Road and Upper Dock Road | +17
Southold Bay | Approximately 850 feet east of the intersection of Route 25 and Town Harbor Lane | +6 | Town of Southold, Town of Shelter Island.
| Approximately 275 feet north of the intersection of Basin Road and Paradise Point Road | +21
Tobaccolot Bay | Approximately 1.1 miles east of the intersection of Gardiner Island Road and 4WD Road | +6 | Town of East Hampton.
| Approximately 1.4 miles east of the intersection of Gardiner Island Road and 4WD Road | +11
West Harbor | Approximately 0.6 mile east of the intersection of East End Drive and Peninsula Road | +7 | Town of Southold.
| Shoreline, approximately 1,200 feet east of the intersection of Montauk Avenue and Hedge Street | +19
West Neck Harbor | Approximately 1,000 feet west of the intersection of Lake Drive and South Midway Road | +5 | Town of Shelter Island, Village of North Haven.
| Shoreline approximately 1,500 feet south of the intersection of Sea Gate Drive and South Midway Road | +8
* National Geodetic Vertical Datum.
+ North American Vertical Datum.
# Depth in feet above ground.
ADDRESSES
Poospatuck Indian Reservation
Maps are available for inspection at the Poospatuck Indian Reservation Administrative Offices, 138 Eleanor Avenue, Mastic, NY 11950.
Shinnecock Indian Reservation
Maps are available for inspection at the Shinnecock Indian National Tribal Office, 100 Church Street, Southampton, NY 11969.
Town of Babylon
Maps are available for inspection at the Babylon Town Hall, 200 East Sunrise Highway, Lindenhurst, NY 11757.
Town of Brookhaven
Maps are available for inspection at the Brookhaven Town Hall, 1 Independence Hill, Farmingville, NY 11738.
Town of East Hampton
Maps are available for inspection at the East Hampton Town Hall, 159 Pantigo Road, East Hampton, NY 11937.
Town of Huntington
Maps are available for inspection at the Huntington Town Hall, 100 Main Street, Huntington, NY 11743.
Town of Islip
Maps are available for inspection at the Islip Town Hall, 655 Main Street, Islip, NY 11751.
Town of Riverhead
Maps are available for inspection at the Riverhead Town Hall, 201 Howell Avenue, Riverhead, NY 11901.
Town of Shelter Island
Maps are available for inspection at the Shelter Island Town Hall, 38 North Ferry Road, Shelter Island, NY 11964.
Town of Smithtown
Maps are available for inspection at the Smithtown Town Hall, 99 West Main Street, Smithtown, NY 11787.
Town of Southampton
Maps are available for inspection at the Southampton Town Hall, 116 Hampton Road, Southampton, NY 11968.
Town of Southold
Maps are available for inspection at the Southold Town Hall, 53095 Route 25, Southold, NY 11971.
Village of Amityville
Maps are available for inspection at the Amityville Village Hall, 21 Greene Avenue, Amityville, NY 11701.
Village of Asharoken
Maps are available for inspection at the Asharoken Village Hall, 1 Asharoken Avenue, Northport, NY 11768.
Village of Babylon
Maps are available for inspection at the Babylon Village Hall, 153 West Main Street, Babylon, NY 11702.
Village of Belle Terre
Maps are available for inspection at the Belle Terre Village Hall, 1 Cliff Road, Belle Terre, NY 11777.
Village of Bellport
Maps are available for inspection at the Bellport Village Hall, 29 Bellport Lane, Bellport, NY 11713.
Village of Brightwaters
Maps are available for inspection at the Brightwaters Village Hall, 40 Seneca Drive, Brightwaters, NY 11718.
Village of Dering Harbor
Maps are available for inspection at the Dering Harbor Village Hall, 23 Locust Point Road, Shelter Island Heights, NY 11965.
Village of East Hampton:
Maps are available for inspection at the East Hampton Village Hall, 86 Main Street, East Hampton, NY 11937.
Village of Greenport
Maps are available for inspection at the Greenport Village Hall, 236 3rd Street, Greenport, NY 11944.
Village of Head of The Harbor
Maps are available for inspection at the Head of the Harbor Village Hall, 500 North Country Road, St. James, NY 11780.
Village of Huntington Bay
Maps are available for inspection at the Huntington Bay Village Hall, 244 Vineyard Road, Huntington Bay, NY 11743.
Village of Lindenhurst
Maps are available for inspection at the Lindenhurst Village Hall, 430 South Wellwood Avenue, Lindenhurst, NY 11757.
Village of Lloyd Harbor
Maps are available for inspection at the Lloyd Harbor Village Hall, 32 Middle Hollow Road, Huntington, NY 11743.
Village of Nissequogue
Maps are available for inspection at the Nissequogue Village Hall, 631 Moriches Road, St. James, NY 11780.
Village of North Haven
Maps are available for inspection at the North Haven Village Hall, 335 Ferry Road, Sag Harbor, NY 11963.
Village of Northport
Maps are available for inspection at the Northport Village Hall, 224 Main Street, Northport, NY 11768.
Village of Ocean Beach
Maps are available for inspection at the Ocean Beach Village, 315 Cottage Walk, Ocean Beach, NY 11770.
Village of Old Field
Maps are available for inspection at the Old Field Village Hall, 207 Old Field Road, Setauket, NY 11733.
Village of Patchogue
Maps are available for inspection at the Patchogue Village Hall, 14 Baker Street, Patchogue, NY 11772.
Village of Poquott
Maps are available for inspection at the Poquott Village Hall, 45 Birchwood Avenue, East Setauket, NY 11733.
Village of Port Jefferson
Maps are available for inspection at the Port Jefferson Village Hall, 121 West Broadway, Port Jefferson, NY 11777.
Village of Quogue
Maps are available for inspection at the Quogue Village Hall, 7 Village Lane, Quogue, NY 11959.
Village of Sag Harbor
Maps are available for inspection at the Sag Harbor Village Hall, 22 Main Street, Sag Harbor, NY 11963.
Village of Sagaponack
Maps are available for inspection at the Sagaponack Village Hall, 20 Sagg Main Street, Sagaponack, NY 11962.
Village of Saltaire
Maps are available for inspection at the Saltaire Village Hall, 103 Broadway, Saltaire, NY 11706.
Village of Shoreham
Maps are available for inspection at the Shoreham Village Hall, 80 Woodville Road, Shoreham, NY 11786.
Village of Southampton
Maps are available for inspection at the Southampton Village Hall, 23 Main Street, Southampton, NY 11968.
Village of Westhampton Dunes
Maps are available for inspection at the Westhampton Dunes Village Hall, 4 Arthur Street, Westhampton Beach, NY 11977.
Village of Westhampton Beach
Maps are available for inspection at the Westhampton Beach Village Hall, 165 Mill Road, Westhampton Beach, NY 11978.
Ulster County, New York, and Incorporated Areas
FEMA Docket No.: B-7748
Rondout Creek | Approximately 500 feet downstream of the Conrail Bridge Structure | +9 | City of Kingston, Town of Esopus, Town of Rosendale, Town of Ulster.
| Approximately 200 feet upstream of Lawrenceville Road (State Route 213) | +91
Saw Kill | At confluence with Esopus Creek | +151 | Town of Kingston, Town of Ulster.
| Approximately 0.7 miles upstream of Powder Mill Road | +255
Twaalfskill Brook | At confluence with Rondout Creek | +10 | City of Kingston.
| Approximately 55 feet upstream of Brook Street | +54
* National Geodetic Vertical Datum.
+ North American Vertical Datum.
# Depth in feet above ground.
ADDRESSES
City of Kingston
Maps are available for inspection at City Hall, 420 Broadway, Kingston, NY 12401.
Town of Esopus
Maps are available for inspection at the Esopus Town Hall, 172 Broadway, Port Ewen, NY 12466.
Town of Kingston
Maps are available for inspection at the Kingston Town Hall, 906 Sawkill Road, Kingston, NY 12401.
Town of Rosendale
Maps are available for inspection at the Rosendale Town Hall, 424 Main Street, Rosendale, NY 12742.
Town of Ulster
Maps are available for inspection at the Ulster Town Hall, 1 Town Hall Drive, Lake Katrine, NY 12449.
Kay County, Oklahoma, and Incorporated Areas
FEMA Docket No.: B-7755
Tributary B (Arkansas River) | At the confluence with Tributary C | +941 | City of Ponca City, Unincorporated Areas of Kay County.
| Approximately just downstream of the intersection of Hartford Avenue | +1037
Tributary C (Arkansas River) | Upstream of Lake Road at the Confluence with Tributary B | +941 | City of Ponca City, Unincorporated Areas of Kay County.
| Approximately 100 feet upstream of the intersection of Donner Avenue | +1038
Tributary D (Arkansas River) | At intersection with Lake Road | +943 | City of Ponca City, Unincorporated Areas of Kay County.
| Approximately 887 feet upstream from intersection with Kingston Road | +1039
Tributary E (Arkansas River) | Upstream of Virginia Avenue at the intersection of East Overbrook Avenue | +970 | City of Ponca City, Unincorporated Areas of Kay County.
| Approximately 300 feet upstream of the intersection with Donahoe Drive | +994
Tributary G (Arkansas River) | Approximately 100 feet downstream of Seventh Street at the intersection with Poplar Avenue | +961 | City of Ponca City, Unincorporated Areas of Kay County.
| Approximately 100 feet upstream of Second Street | +990
Tributary G Left Tributary 1 (Arkansas River) | At the confluence with Tributary G (Arkansas River) | +962 | City of Ponca City, Unincorporated Areas of Kay County.
| Approximately 100 feet upstream of Virginia Avenue | +966
Tributary I (Arkansas River) | At the intersection with Seventh Street | +945 | City of Ponca City, Unincorporated Areas of Kay County.
| Approximately 290 feet upstream from intersection with S. 6th Street | +953
Tributary L (Bois d'Arc Creek) | At the intersection with North Flormable Street | +958 | City of Ponca City, Unincorporated Areas of Kay County.
| Approximately 100 feet upstream of Olympia Street | +978
Tributary M (Bois d'Arc Creek) | At the intersection with Highland Avenue | +967 | City of Ponca City, Unincorporated Areas of Kay County.
| At intersection with Bradley Avenue | +1036
Tributary N (Bois d'Arc Creek) | Approximately 168 feet upstream from intersection with Oriole Street | +1034 | City of Ponca City, Unincorporated Areas of Kay County.
| Approximately 2,558 feet upstream from intersection with Oriole Street | +1042
Tributary O (Bois d'Arc Creek) | At the intersection with Liberty Avenue | +986 | City of Ponca City, Unincorporated Areas of Kay County.
| Approximately 1,038 feet upstream from intersection with Ast Street | +1008
Tributary O Tributary (Bois d'Arc Creek) | Approximately 767 feet upstream from intersection with Liberty Avenue | +990 | City of Ponca City, Unincorporated Areas of Kay County.
| Approximately 2,463 feet upstream from intersection with Liberty Avenue | +1003
Tributary W (Arkansas River) | Approximately 222 feet upstream from intersection with LA Cann Drive | +933 | City of Ponca City, Unincorporated Areas of Kay County.
| Approximately 3,099 feet upstream from intersection with LA Cann Drive | +985
* National Geodetic Vertical Datum.
+ North American Vertical Datum.
# Depth in feet above ground.
ADDRESSES
City of Blackwell
Maps are available for inspection at 221 West Blackwell Avenue, Blackwell, OK 74631.
City of Kaw City
Maps are available for inspection at 115 South Maple Avenue, Newkirk, OK 74647.
City of Newkirk
Maps are available for inspection at 107 Main Street, Newkirk, OK 74647.
City of Ponca City
Maps are available for inspection at 516 East Grand Avenue, Ponca City, OK 74607.
City of Tonkawa
Maps are available for inspection at 113 South 7th Street, Tonkawa, OK 74653.
Town of Braman
Maps are available for inspection at 302 Broadway, Braman, OK 74632.
Unincorporated Areas of Kay County
Maps are available for inspection at 115 South Maple Avenue, Newkirk, OK 74647.
York County, Pennsylvania, and Incorporated Areas
FEMA Docket No.: B-1017
Bald Eagle Creek | Approximately 170 feet downstream of Bald Eagle Road | +363 | Township of Fawn.
| 20 feet downstream of Bald Eagle Road | +363
Barsinger Creek & Barsinger Creek Tributary 1 | Approximately 550 feet upstream on Arbor Road | +521 | Township of North Hopewell.
| Approximately at Stine Hill Road | +660
Bennett Run | At Front Street Bridge over Bennett Run | +423 | Township of Fairview.
| Approximately 230 feet downstream of Front Street | +423
Centerville Creek | Approximately at confluence of South Branch Codorus Creek and Centerville Creek | +534 | Township of Shrewsbury.
| Approximately 300 feet west of intersection of Fissels Church Road and Ridge Road | +623
| Approximately 1,500 feet downstream of the confluence of Centerville Creek & Centerville Creek Tributary | +671
| Approximately 1,700 feet upstream of the confluence of Centerville Creek & Centerville Creek Tributary | +712
Codorus Creek | Approximately 2,000 feet upstream of Furnace Road | +275 | Township of East Manchester.
| Approximately 7,500 feet upstream of Furnace Road | +275
Codorus Creek | Approximately 2,000 feet upstream of Park Road | +519 | Township of North Codorus.
| Approximately 500 feet upstream of Park Road at cross section DC | +528
Conewago Creek | Approximately 1,800 feet upstream of confluence of Conewago and Little Conewago Creek | +290 | Township of Conewago.
| Approximately 350 feet downstream of Bull Road | +344
Dogwood Run | Approximately 2,400 feet upstream of Greenhouse Road | +677 | Township of Franklin.
| Approximately 3,300 feet upstream of Greenhouse Road | +692
Dogwood Run | Approximately 60 feet downstream of the confluence of Dogwood Run and Tributary A | +526 | Borough of Dillsburg.
| Approximately 1,400 feet upstream of Old Mill Road | +531
Dogwood Run | Approximately 60 feet downstream of the confluence of Dogwood Run and Tributary A | +526 | Township of Carroll.
| Approximately 2,000 feet upstream of Camp Ground Road | +604
East Branch Codorus Creek | Approximately 450 feet downstream of Log Road | +494 | Township of Springfield.
| Approximately 600 feet downstream of Hess Farm Road | +518
Hartman Run | Approximately 200 feet Southeast of intersection of Lightner Avenue and Walnut Street | +389 | Borough of Manchester.
| Approximately 1,500 feet downstream of Forge Hill Road | +418
Kreutz Creek | Approximately 200 feet South of the end of Owl Valley Road | +424 | Township of Windsor, Township of Lower Windsor.
| Approximately 325 feet South of the end of Owl Valley Road | +424
Little Conewago Creek | Approximately 800 feet upstream of confluence of Conewago and Little Conewago Creek | +289 | Township of Conewago.
| Approximately 700 feet downstream of Harrisburg Baltimore Expressway | +323
Little Conewago Creek | Approximately at Bull Road and Hilton Avenue | +374 | Township of Dover.
| Approximately at Carlisle Road | +381
Muddy Creek | Approximately at the confluence of Scott Creek & Muddy Creek | +220 | Township of Lower Chanceford.
| Approximately at Bridgeton Road | +313
Pine Run | Approximately at confluence of Pine Run and Pine Run Tributary 2 | +551 | Township of Windsor.
| Approximately 900 feet downstream from the confluence of Pine Run and Pine Run Tributary 1 | +587
South Branch Codorus Creek | Approximately 2,000 feet upstream of intersection of Pennsylvania Railroad and Days Mill Road | +391 | Township of North Codorus.
| Approximately at confluence of South Branch Codorus Creek & East Branch Codorus Creek | +416
South Branch Codorus Creek | Approximately at confluence of South Branch Creek & South Branch Creek Tributary B | +478 | Township of Springfield.
| Approximately at confluence of South Branch Codorus Creek & Centerville Creek | +529
South Branch Codorus Creek | Approximately 3,200 feet downstream from Dam | +519 | Township of Heidelberg.
| Approximately 1,300 feet downstream from Dam | +519
Stony Run No. 1 | Approximately 850 feet downstream of intersection of Andersontown Road and Brenneman Drive | +375 | Township of Fairview.
| Approximately at the intersection of Saw Mill Road and South Wharf Road | +419
Stony Run No. 3 | Approximately 80 feet downstream of Beaver Lane | +344 | Township of Warrington.
| Approximately 1,450 feet upstream of Beaver Lane | +344
Susquehanna River | Approximately 3,000 feet East of Cooper Road | +112 | Township of Peach Bottom.
| Approximately 800 feet upstream of Lay Road Access Road | +113
Tributary 1 (North Branch Bermudian Creek) | Approximately 450 feet upstream of Cabin Hollow Road | +542 | Township of Carroll.
| Approximately 1,300 feet downstream of Stony Run Road | +571
Tyler Run | Approximately 2,000 feet upstream of Tri-Hill Drive | +478 | Township of Spring Garden.
| Approximately 2,450 feet upstream of Tri-Hill Drive | +486
* National Geodetic Vertical Datum.
+ North American Vertical Datum.
# Depth in feet above ground.
ADDRESSES
Borough of Dillsburg
Maps are available for inspection at the Municipal Building, 151 South Baltimore Street, Dillsburg, PA 17019.
Borough of Manchester
Maps are available for inspection at the Municipal Building, 225 South Main Street, Manchester, PA 17345.
Township of Carroll
Maps are available for inspection at the Municipal Building, 555 Chestnut Grove Road, Dillsburg, PA 17019.
Township of Conewago
Maps are available for inspection at the Municipal Building, 490 Copenhaffer Road, York, PA 17404.
Township of Dover
Maps are available for inspection at the Municipal Building, 2480 Wet Canal Road, Dover, PA 17315.
Township of East Manchester
Maps are available for inspection at the Municipal Building, 5080 North Sherman Street Extended, Mount Wolf, PA 17347.
Township of Fairview
Maps are available for inspection at the Municipal Building, 599 Lewisberry Road, New Cumberland, PA 17070.
Township of Fawn
Maps are available for inspection at the Municipal Building, 245 Alum Rock Road, New Park, PA 17352.
Township of Franklin
Maps are available for inspection at the Municipal Building, 150 Century Lane, Dillsburg, PA 17019.
Township of Heidelberg
Maps are available for inspection at the Municipal Building, 6424 York Road, Spring Grove, PA 17331.
Township of Lower Chanceford
Maps are available for inspection at the Municipal Building, 4120 Delta Road, Airville, PA 17302.
Township of Lower Windsor
Maps are available for inspection at the Township Office, 111 Walnut Valley Court, Wrightsville, PA 17368.
Township of North Codorus
Maps are available for inspection at the Municipal Building, 1986 Stoverstown Road, Spring Grove, PA 17362.
Township of North Hopewell
Maps are available for inspection at the Municipal Building, 13081 High Point Road, Felton, PA 17322.
Township of Peach Bottom
Maps are available for inspection at the Municipal Building, 545 Broad Street Extended, Delta, PA 17314.
Township of Shrewsbury
Maps are available for inspection at the Municipal Building, 12341 Susquehanna Trail South, Glen Rock, PA 17327.
Township of Spring Garden
Maps are available for inspection at the Administration Building, 558 Ogontz Street, York, PA 17403.
Township of Springfield
Maps are available for inspection at the Municipal Building, 9211 Susqehanna Trail South, Seven Valleys, PA 17327.
Township of Warrington
Maps are available for inspection at the Municipal Building, 3345 Rosstown Road, Wellsville, PA 17365.
Township of Windsor
Maps are available for inspection at the Municipal Building, 1480 Windsor Road, Red Lion, PA 17356.
Cocke County, Tennessee, and Incorporated Areas
FEMA Docket No.: B-1013
Clear Creek | Approximately 2.2 miles upstream of the confluence of French Broad River | +1030 | Unincorporated Areas of Cocke County.
| Approximately 927 feet upstream of the confluence of French Broad River | +1030
French Broad River/Douglas Lake | Approximately 4.7 miles downstream of US Highway 25 E | +1002 | Unincorporated Areas of Cocke County.
| Approximately 1.5 miles upstream of the confluence of Pigeon River | +1014
Haney Branch | At the confluence of French Broad River | +1010 | Unincorporated Areas of Cocke County.
| Approximately 1,290 feet upstream of Wynn Way | +1010
McCowan Creek | At the confluence of French Broad River | +1002 | Unincorporated Areas of Cocke County.
| Approximately 1.1 miles upstream of the confluence of French Broad River | +1002
Nolichucky River | Approximately 1.2 miles upstream of Hale Road | +1022 | Unincorporated Areas of Cocke County.
| Approximately 1.1 miles upstream of Glendale Road | +1044
* National Geodetic Vertical Datum.
+ North American Vertical Datum.
# Depth in feet above ground.
ADDRESSES
Unincorporated Areas of Cocke County
Maps are available for inspection at the Cocke County Courthouse, 111 Court Avenue, Room 112, Newport, TN 37821.
Crockett County, Tennessee, and Incorporated Areas
FEMA Docket No.: B-1003
South Fork of Forked Deer River | At the Crockett/Madison/Haywood county boundary | +319 | Unincorporated Areas of Crockett County.
| Approximately 1,365 feet upstream of the confluence with Connley Creek (At the Crockett/Madison county boundary) | +324
* National Geodetic Vertical Datum.
+ North American Vertical Datum.
# Depth in feet above ground.
ADDRESSES
Unincorporated Areas of Crockett County
Maps are available for inspection at the Courthouse, 1 South Bell Street, Alamo, TN 38001.
Dickson County, Tennessee, and Incorporated Areas
FEMA Docket No.: B-1003
East Piney River | At the confluence of Piney River | +584 | Unincorporated Areas of Dickson County, City of Dickson.
| Approximately 3,400 feet upstream of the confluence of Willow Branch | +696
Fivemile Creek | Approximately 2,700 feet downstream of County Highway 1847 | +548 | Unincorporated Areas of Dickson County, Town of White Bluff.
| Approximately 3,370 feet upstream of County Highway 1847 | +584
Piney River | At the confluence with East Piney River | +584 | Unincorporated Areas of Dickson County.
| Approximately 200 feet upstream of County Road 1858 | +629
* National Geodetic Vertical Datum.
+ North American Vertical Datum.
# Depth in feet above ground.
ADDRESSES
City of Dickson
Maps are available for inspection at the Office of the Director of Planning and Zoning, 200 Center Avenue, Dickson, TN 37055.
Town of White Bluff
Maps are available for inspection at 1016 Taylor Town Road, White Bluff, TN 37187.
Unincorporated Areas of Dickson County
Maps are available for inspection at the Office of the Director of Planning and Zoning, 2 Court Square, Charlotte, TN 37036.
Humphreys County, Tennessee, and Incorporated Areas
FEMA Docket No.: B-1003
Kentucky Lake (Tennessee River) | At the Humphreys/Perry/Benton county boundary | +375 | Humphreys County, City of New Johnsonville.
| At the Humphreys/Houston/Benton county boundary | +375
* National Geodetic Vertical Datum.
+ North American Vertical Datum.
# Depth in feet above ground.
ADDRESSES
City of New Johnsonville
Maps are available for inspection at City Hall, 323 Long Street, New Johnsonville, TN 37134.
Humphreys County
Maps are available for inspection at the Chamber of Commerce, 124 East Main Street, Waverly, TN 37185.
Claiborne County, Tennessee, and Incorporated Areas
FEMA Docket No.: B-1012
Clinch River/Norris Lake | Approximately 2.3 miles downstream of the confluence of Big Barren Creek | +1055 | Unincorporated Areas of Claiborne County.
| Approximately 3.3 miles upstream of US Highway 25 | +1055
* National Geodetic Vertical Datum.
+ North American Vertical Datum.
# Depth in feet above ground.
ADDRESSES
Unincorporated Areas of Claiborne County
Maps are available for inspection at County Courthouse, 1740 Main Street, Tazewell, TN 37879.
Tarrant County, Texas, and Incorporated Areas
FEMA Docket No.: B-7737
Big Bear Creek | Approximately 1270 ft downstream of the intersection at Highway 183 | +527 | City of Fort Worth, City of Euless, City of Grand Prairie, City of Grapevine, City of Keller, City of South Lake, Town of Colleyville, Unincorporated Areas of Tarrant County.
| Approximately 93 ft downstream of the intersection with Bear Creek Pkwy. | +758
Hogpen Branch | Approximately 83 feet upstream from intersection with Country Club Road | +582 | City of Mansfield.
| Approximately 100 feet downstream from intersection with Highway 157 | +621
Johnson Creek | Intersection with Avenue K | +467 | City of Grand Prairie.
| Approximately 200 feet upstream of intersection with Highway 360 | +511
Nichols Branch | Intersection with Newt Patterson Road | +599 | City of Mansfield.
| Approximately 560 feet downstream of intersection with Columbria Drive | +620
Plantation East Creek | Upstream of Llano Avenue approximately 290 feet | +651 | City of Benbrook.
| Approximately 288 feet upstream of Circle S Road | +685
Plantation West Creek, Stream MSC-1A | Intersection with Twilight Drive W. | +671 | City of Benbrook, City of Fort Worth.
| Approximately 705 feet from intersection with Dawn Drive | +692
Pond Branch | Approximately 95 feet downstream of intersection with Depot Street | +587 | City of Mansfield.
| Approximately 37 feet downstream of East Kimball Street | +600
Stream JC-1 | Approximately 300 feet downstream of West Tarrant Road intersection | +502 | City of Grand Prairie.
| Intersection with Duncan Perry Road | +503
Timber Creek | Approximately 700 feet upstream of confluence with Clear Fork of the Trinity River | +618 | City of Benbrook.
| Approximately 700 feet downstream of the intersection with McKinley Street | +692
Walnut Creek 3 | Approximately 4,850 feet downstream from intersection with Highway 360 | +546 | City of Mansfield.
| Approximately 80 feet downstream from the intersection of 287 | +588
Watson Branch | Confluence with Walnut Creek 3 | +580 | City of Mansfield.
| Intersection with Highway 157 | +641
Willow Bend | The intersection with Willow Bend Creek at Meadowside Drive | +640 | City of Benbrook.
| Approximately 70 feet downstream of intersection with Williams Road | +707
* National Geodetic Vertical Datum.
+ North American Vertical Datum.
# Depth in feet above ground.
ADDRESSES
City of Benbrook
Maps are available for inspection at 911 Winscott Road, Benbrook, TX 76126.
City of Euless
Maps are available for inspection at 201 North Ector Drive, Euless, TX 76039.
City of Fort Worth
Maps are available for inspection at 1000 Throckmorton Street, Fort Worth, TX 76102.
City of Grand Prairie
Maps are available for inspection at 317 College Street, Grand Prairie, TX 75053.
City of Grapevine
Maps are available for inspection at 413 South Main Street, Grapevine, TX 76051.
City of Keller
Maps are available for inspection at 158 South Main Street, Keller, TX 76248.
City of Mansfield
Maps are available for inspection at 1305 East Broad Street, Mansfield, TX 76063.
City of South Lake
Maps are available for inspection at 667 North Carroll Avenue, Southlake, TX 76092.
Town of Colleyville
Maps are available for inspection at 401 Oak Valley Road, Colleyville, TX 76034.
Unincorporated Areas of Tarrant County
Maps are available for inspection at 100 East Weatherford Street, Fort Worth, TX 76196.
Salt Lake County, Utah, and Incorporated Areas
FEMA Docket No.: B-7759
Midas Creek | Approximately 400 feet upstream of the confluence with the Jordan River | +4325 | City of Riverton, City of South Jordan, Unincorporated Areas of Salt Lake County.
| Just upstream of 11800 South Street | +4566
Willow Creek (West) | Just upstream of 11400 South Street | +4362 | City of Draper.
| Just downstream of 300 East Street | +4442
* National Geodetic Vertical Datum.
+ North American Vertical Datum.
# Depth in feet above ground.
ADDRESSES
City of Draper
Maps are available for inspection at 1020 East Pioneer Road, Draper, UT 84020.
City of Riverton
Maps are available for inspection at 12830 South Redwood Road, Riverton, UT 84065.
City of South Jordan
Maps are available for inspection at 1600 West Towne Center Drive, South Jordan, UT 84095.
Unincorporated Areas of Salt Lake County
Maps are available for inspection at 2001 South State Street, Suite N2100, Salt Lake City, UT 84190.
Montgomery County, Virginia, and Incorporated Areas
FEMA Docket No.: B-1012
Plum Creek | Approximately 900 ft upstream of US Highway 11 | +1755 | Unincorporated Areas of Montgomery County.
| Approximately at the intersection of Gate Road and Plum Creek Road | +1918
* National Geodetic Vertical Datum.
+ North American Vertical Datum.
# Depth in feet above ground.
ADDRESSES
Unincorporated Areas of Montgomery County
Maps are available for inspection at the Department of Planning and GIS Services, 755 Roanoke Street, Christiansburg, VA 24073.

(Catalog of Federal Domestic Assistance No. 97.022, “Flood Insurance.”)

Dated: June 1, 2009.
Deborah S. Ingram,
Acting Deputy Assistant Administrator, Mitigation Directorate, Department of Homeland Security, Federal Emergency Management Agency.

[FR Doc. E9-14042 Filed 6-12-09; 8:45 am]

BILLING CODE 9110-12-P